FEDERAL COMMUNICATIONS COMMISSION

47 CFR Part 1

[MD Docket No. 01-76; FCC 01-196]

Assessment and Collection of Regulatory Fees for Fiscal Year 2001

AGENCY: Federal Communications Commission.

ACTION: Final Rule.

SUMMARY: The Commission will revise its Schedule of Regulatory Fees in order to recover the amount of regulatory fees that Congress has required it to collect for fiscal year 2001. Section 9 of the Communications Act of 1934, as amended, provides for the annual assessment and collection of regulatory fees under sections 9(b)(2) and 9(b)(3), respectively, for annual “Mandatory Adjustments” and “Permitted Amendments” to the Schedule of Regulatory Fees.

EFFECTIVE DATE: September 9, 2001.

FOR FURTHER INFORMATION CONTACT: Terry Johnson, Office of Managing Director at (202) 418-0445 or Roland Helvajian, Office of Managing Director at (202) 418-0444.

SUPPLEMENTARY INFORMATION: Adopted: June 28, 2001.

Released: July 2, 2001.

By the Commission:

Table of Contents

Topic | Paragraph numbers
I. Introduction | 1
II. Background | 4
III. Discussion
A. Summary of FY 2001 Fee Methodology | 9
B. Development of FY 2001 Fees
i. Adjustment of Payment Units | 13
ii. Calculation of Revenue Requirements | 14
iii. Recalculation of Fees | 15
iv. Discussion of Issues and Changes to Fee Schedule | 16
a. Amateur Vanity Call Signs | 17
b. Multipoint Distribution Service (MDS) | 18
c. Commercial Mobile Radio Services (CMRS) | 23
d. UHF Television | 27
e. INTELSAT Satellites | 29
f. Mandatory Use of FCC Registration Number (FRN) | 30
C. Procedures for Payment of Regulatory Fees | 32
i. Annual Payments of Standard Fees | 33
ii. Installment Payments for Large Fees | 34
iii. Advance Payments of Small Fees | 35
iv. Minimum Fee Payment Liability | 36
v. Standard Fee Calculations and Payments | 37
D. Schedule of FY 2001 Regulatory Fees | 39
E. Revised Rules for Waivers, Reductions, and Deferrals | 40
F. Enforcement | 41
IV. Procedural Matters
A. Ordering Clauses | 42
B. Authority and Further Information | 43
Attachment A—Final Regulatory Flexibility Analysis
Attachment B—Sources of Payment Unit Estimates for FY 2001
Attachment C—Calculation of Revenue Requirements and Pro-Rata Fees
Attachment D—FY 2001 Schedule of Regulatory Fees
Attachment E—Comparison Between FY 2000 and FY 2001 Proposed and Final Regulatory Fees
Attachment F—Detailed Guidance on Who Must Pay Regulatory Fees
Attachment G—Description of FCC Activities
Attachment H—Factors, Measurements, and Calculations that Determine Station Signal Contours and Population Coverages
Attachment I—Parties Filing Comments and Reply Comments
Attachment J “ AM and FM Radio Regulatory Fees

I. Introduction

1. By this Report and Order, the Commission concludes a proceeding to revise its Schedule of Regulatory Fees to collect the amount of regulatory fees that Congress, pursuant to section 9(a) of the Communications Act, as amended, has required us to collect for Fiscal Year (FY) 2001.¹

¹ 47 U.S.C. 159(a).

2. Congress has required that we collect $200,146,000 through regulatory fees to recover the costs of our competition, enforcement, spectrum management, and consumer information activities for FY 2001.² See Attachment G for a description of these activities. This amount is $14,392,000 or approximately 7.75% more than the amount that Congress designated for recovery through regulatory fees for FY 2000.³ We are revising our fees in order to collect the amount that Congress has specified, as illustrated in a new fee schedule in Attachment D.

² Public Law 106-553 and 47 U.S.C. 159(a)(2).

³ Assessment and Collection of Regulatory Fees for Fiscal Year 2000. 65 FR 44576 (2000).

3. In revising our fees, we adjusted the payment units and revenue requirement for each service subject to a fee, consistent with section 159(b)(2). The current Schedule of Regulatory Fees is set forth in §§ 1.1152 through 1.1156 of the Commission's rules.⁴

⁴ 47 CFR 1.1152 through 1.1156.

II. Background

4. Section 9(a) of the Communications Act of 1934, as amended, authorizes the Commission to assess and collect annual regulatory fees to recover the costs, as determined annually by Congress, that it incurs in carrying out enforcement, policy and rulemaking, international, and user information activities.⁵ In our FY 1994 Fee Order,⁶ we adopted the Schedule of Regulatory Fees that Congress established, and we prescribed rules to govern payment of the fees, as required by Congress.⁷ Subsequently, we modified the fee schedule to increase the fees in accordance with the amounts Congress required us to collect in each succeeding fiscal year. We are also amending the rules governing our regulatory fee program based upon our prior experience in administering the program.⁸

⁵ 47 U.S.C. 159(a).

⁶ 59 FR 30984, June 16, 1994.

⁷ 47 U.S.C. 159(b), (f)(1).

⁸ 47 CFR 1.1151 et seq.

5. As noted, for FY 1994 (59 FR 30984, June 16, 1994) we adopted the Schedule of Regulatory Fees established in section 9(g) of the Act. For fiscal years after FY 1994, however, sections 9(b)(2) and 9(b)(3), respectively, provide for “Mandatory Adjustments” and “Permitted Amendments” to the Schedule of Regulatory Fees.⁹ Section 9(b)(2), entitled “Mandatory Adjustments,” requires that we revise the Schedule of Regulatory Fees to reflect the amount that Congress requires us to recover through regulatory fees.¹⁰

⁹ 47 U.S.C. 159(b)(2), (b)(3).

¹⁰ 47 U.S.C. 159(b)(2).

6. Section 9(b)(3), entitled “Permitted Amendments,” requires that we determine annually whether additional adjustments to the fees are warranted, taking into account factors that are in the public interest, as well as issues that are reasonably related to the payer of the fee. These amendments permit us to “add, delete, or reclassify services in the Schedule to reflect additions, deletions or changes in the nature of its services * * *” ¹¹

¹¹ 47 U.S.C. 159(b)(3).

7. Section 9(i) requires that we develop accounting systems necessary to adjust our fees pursuant to changes in the cost of regulating various services that are subject to a fee, and for other purposes.¹² The Commission is in the process of planning a new cost accounting system, which we expect to be in place in FY 2002. For FY 1997 (62 FR 59822, November 5, 1997), we relied for the first time on cost accounting data to identify our regulatory costs and to develop our FY 1997 fees based upon these costs. Also, in FY 1997, we found that some fee categories received disproportionately high cost allocations. We adjusted for these high cost allocations by redistributing the costs, and maintained a 25% limit on the extent in which service fee categories can be increased. We believed that this 25% limit would enable cost-based service fees to be implemented more gradually over time. We thought that this methodology, which we continued to use for FY 1998 (63 FR 35847, July 1, 1998), would enable us to develop a regulatory fees schedule that reflected our cost of regulation. Over time, as the cost of regulation increases or decreases, this methodology would enable us to revise the fee schedule to reflect those services whose regulatory costs had changed.

¹² 47 U.S.C. 159(i).

8. However, we found that developing a regulatory fee structure based on available cost information sometimes did not permit us to recover the amount that Congress required us to collect. In some instances, the large increases in the cost of regulation did not normalize to an acceptable level. We concluded that it would be best to discontinue attempts to base the entire schedule on our available cost data. Instead, we chose to base the FY 1999 (64 FR 35831, July 1, 1999) and FY 2000 (65 FR 44575, July 18, 2000) fees on the basis of “Mandatory Adjustments” only. We have found no reason to deviate from this policy for FY 2001. However, we are applying the “Mandatory Adjustments” differently to better incorporate changes in payment units. As noted above, however, we expect to have a new cost accounting system in place in FY 2002. Finally, section 9(b)(4)(B) requires us to notify Congress of any permitted amendments 90 days before those amendments go into effect.¹³

¹³ 47 U.S.C. 159(b)(4)(B).

III. Discussion

A. Summary of FY 2001 Fee Methodology

9. As noted above, Congress has required that the Commission recover $200,146,000 for FY 2001 through the collection of regulatory fees, representing the costs applicable to our enforcement, policy and rulemaking, international, and user information activities.¹⁴

¹⁴ 47 U.S.C. 159(a).

10. In developing our FY 2001 fee schedule, we first estimated the number of payment units ¹⁵ for FY 2001. Then we compared the FY 2000 revenue estimate amount to the $200,146,000 that Congress has required us to collect in FY 2001 and pro-rated the difference among all the existing fee categories. Finally, we divided the FY 2001 payment unit estimates into the pro-rated FY 2001 revenue estimates to determine the new FY 2001 fees. See Attachment C.

¹⁵ Payment units are the number of subscribers, mobile units, pagers, cellular telephones, licenses, call signs, adjusted gross revenue dollars, etc. which represent the base volumes against which fee amounts are calculated.

11. Once we established our tentative FY 2001 fees, we evaluated proposals made by Commission staff concerning “Permitted Amendments” to the Fee Schedule and to our collection procedures. However, we are not making any “Permitted Amendments.” Collection procedure matters are discussed in paragraphs 31-37.

12. Finally, we have incorporated, as Attachment F, proposed Guidance containing detailed descriptions of each fee category, information on the individual or entity responsible for paying a particular fee and other critical information designed to assist potential fee payers in determining the extent of their fee liability, if any, for FY 2001. In the following paragraphs, we describe in greater detail our methodology for establishing our FY 2001 regulatory fees.

B. Development of FY 2001 Fees

i. Adjustment of Payment Units

13. In calculating FY 2001 regulatory fees for each service, we adjusted the estimated payment units for each service because of substantial changes in payment units for many services since adopting our FY 2000 fees. We obtained our estimated payment units through a variety of means, including our licensee data bases, actual prior year payment records, and industry and trade group projections. Whenever possible, we verified these estimates from multiple sources to ensure accuracy of these estimates. Attachment B summarizes how revised payment units were determined for each fee category.¹⁶

¹⁶ It is important to note also that Congress required a revenue increase in regulatory fee payments of approximately 7.75 percent in FY 2001, which will not fall equally on all payers because payment units have changed in several services. When the number of payment units in a sesrvice increased from one year to another, fees do not have to rise as much as they would if payment units had decreased or remained stable. Declining payment units have the opposite effect on fees.

ii. Calculation of Revenue Requirements

14. We compared the sum of all estimated revenue requirements for FY 2000 to the amount that Congress has required us to collect for FY 2001 ($200,146,000), which is approximately 7.75% more total revenue than in FY 2000. We increased each FY 2000 fee revenue category estimate by 7.75% to provide a total FY 2001 revenue estimate of $200,146,000. Attachment C provides detailed calculations showing how we determined the revised revenue amounts to be raised for each service.

iii. Recalculation of Fees

15. Once we determined the revenue requirement for each service and class of licensee, we divided the revenue requirement by the number of estimated payment units (and by the license term for “small” fees) to obtain actual fee amounts for each fee category. These calculated fee amounts were then rounded in accordance with section 9(b)(2) of the Act. See Attachment C.

iv. Discussion of Issues and Changes to Fee Schedule

16. We examined the results of our calculations to determine if further adjustments of the fees and/or changes to payment procedures were warranted based upon the public interest and other criteria established in 47 U.S.C. 159(b)(3). Unless otherwise noted herein, nothing in this proceeding is intended to change any policies or procedures established or reaffirmed in the FY 2000 Order (65 FR 44575).

a. Amateur Vanity Call Signs

17. Amateur licensee Juddie D. Burgess supports the proposal to reduce the amateur vanity call sign regulatory fee for FY 2001, but questions why licensees must continue to pay a regulatory fee upon each renewal. Section 9 of the Communications Act, as amended, provides for recovery of the Commission's costs associated with its enforcement, policy and rulemaking, user information, and international activities.¹⁷ Each day, the Commission's staff is engaged in activities protecting the assignment of vanity call signs from complaints of improper assignment, illegal use of call signs assigned to another, requests to be assigned a call sign already assigned to another, and so forth. We continue to believe that it is appropriate to assess a regulatory fee at the time of renewal upon holders of amateur vanity call signs.

¹⁷ 47 U.S.C. 159(a)(1).

b. Multipoint Distribution Service (MDS)

18. WorldCom, Inc. (“WorldCom”) objects to the amount of increase proposed for MDS licensees, from $275 in FY 2000 to $450 in FY 2001, an increase of 64 percent. WorldCom argues that sections 9(i) and 9(b)(3) of the Communications Act, as amended, require regulatory fees to be based on the cost of regulating each industry, and contends that the Commission's methodology, which relies on a proportional increase in the fees allotted to each service, is contrary to these provisions. In any event, WorldCom asks the Commission to make a permitted amendment under section 9(b)(3) to reduce the MDS fee to eliminate the allegedly discriminatory treatment of MDS. WorldCom argues that the proposed 64 percent increase in the MDS fee does not reflect a 64 percent increase in regulatory costs, but rather reflects the fact that the Commission's estimate of the number of MDS licenses dropped from 3,036 to 2,000 following an update of the Commission's database. WorldCom asserts that there is no justification for raising the fee based on this factor and proposes that the fee be raised to no more than $295, reflecting the 7.75 percent proportional increase in revenues for FY 2001. Alternatively, WorldCom proposes that the increase in fees be limited to 25 percent, as was done in FY 1997, which would result in a fee of $345.

19. As to WorldCom's general disagreement with our “mandatory adjustment” methodology, we disagree that this methodology violates the statutory requirement of basing fees on costs. Our previous use, through FY 1998, of a cost-based accounting system represented our best efforts to take into account all of the statutory criteria for determining fees, and we are confident that we did so to the extent permitted by the accounting system available to us. As we learned in FY 1997 and FY 1998, however, the existing cost accounting system did not allow us to fully match costs with appropriations, resulting in a shortfall in the revenues we would collect through fees. This has required us to adopt a procedure to “normalize” the revenue required from each service to meet the statutory requirement of fully funding our appropriations through fees. Attempting to use the available inadequate cost accounting system to recalculate costs does not, in our view, provide a means to ameliorate the situation. We believe that the mandatory adjustment methodology we proposed for FY 2001 represents the most valid method of normalizing revenue requirements pending the development of an improved cost accounting system and thereby enables us to best comply with the statute.

20. We do not believe that WorldCom has justified making a “permitted” amendment although the 64 percent increase in fees to which it would be subject is substantial. The increase in fees merely represents the use of updated, more accurate figures for the number of payment units. The use of more accurate data does not necessitate any amendment in order to conform to the standards of the statute. We recognize, as WorldCom points out, that our methodology might result in some anomalies, such as in the case of the international public fixed service, where it is estimated that there is only one licensee. In such cases, we would consider granting a partial waiver. We do not, however, consider the MDS fee to fall within this category.

21. The Wireless Communications Association International, Inc. (“WCA”) seeks clarification that the MDS fee applies only to the “master” call sign, and not to any separate response hub and booster call signs associated with the “master” call sign. Likewise, IPWireless, Inc. requests clarification for the MMDS stations referring to the “lead” call sign rather than response station hubs and booster stations. Sprint Corporation, in its reply comments, supports the positions of WCA and WorldCom. For FY 2001, the Commission has not extended the MDS regulatory fee to response hubs and boosters. We reserve the right to reconsider this decision in the future.

22. Winstar Communications, Inc. (“Winstar”) urges the Commission to reclassify Local Multipoint Distribution Service (LMDS) to place it into the microwave fee category with other part 101 services. We agree with Sprint, however, that, although LMDS and Microwave services may utilize the same equipment, LMDS is operationally similar to MDS and MMDS. This functional categorization has proven adequate for more than two years. Hence, we see no reason to change the classification.

c. Commercial Mobile Radio Services (CMRS)

23. The Cellular Telecommunications & Internet Association (“CTIA”) and Verizon Wireless (“Verizon”), argue that the Commission's mandatory adjustment approach is inconsistent with the requirements of the statute. For the reasons set forth in paragraph 19, above, we reject this argument. CTIA and Verizon also argue that the application of the mandatory adjustment approach has discriminated against fast growing services such as CMRS. CTIA observes that the number of CMRS subscribers has increased by some 62 percent since FY 1999, when the fee was $0.32 per subscriber. CTIA suggests that the CMRS fee should have declined substantially from the FY 1999 level because the total revenue requirement is now divided among more subscribers. Instead, they point out that the proposed FY 2001 fee, $0.30, is only three percent less than it was in FY 2000 (and six percent less than in FY 1999). CTIA and Verizon assert that, as a result, CMRS” share of revenues has increased from eight percent to 16 percent since FY 1999, and CMRS is effectively subsidizing other services. Verizon proposes that the FY 2001 fee should be no more than $0.18 per subscriber.

24. The arguments of CTIA and Verizon in this regard are misplaced. The methodology we proposed for FY 2001 is intended to avoid the problem that CTIA and Verizon point out. To calculate the revenue requirement for FY 2001, we increased the total revenue for the various services proportionately without regard to the number of payment units in each service. We did not calculate the shortfall by taking last year's fees and applying them to the current number of payment units. CTIA correctly suggests that this rejected method would have resulted in fast growing services absorbing an increased share of revenues, since their growth would reduce the overall shortfall and the need to raise fees in other services. Although this may have been the result in the past, we do not believe it is appropriate to retroactively address past increases in revenues collected from CMRS. Therefore, because there are contrary positions on the impact of rapid growth on regulatory costs, we see no basis for a departure from our current approach until an improved cost accounting system is implemented.

25. CTIA also claims that the Commission has “wrongfully imposed a burden on CMRS licensees by increasing regulatory fees to compensate for a shortfall in part caused by the Commission's failure to properly enforce its fee schedule.” The Commission, however, is committed to enforcement of the fee schedule and does not intend to use overpayments as a substitute for enforcement. In this regard, we anticipate that as licensees comply with the FCC Registration Number (FRN) requirements in the future, this will assist us in enforcement. Although our estimates of CMRS growth have taken into account the actual levels of revenue received, we have done this in order to ensure that our estimates are realistic, not to avoid enforcement.

26. Finally, CTIA maintains that “the Commission's FY 2001 subscriber unit estimate is wrong and thus it has overestimated the CMRS mobile service industry's regulatory fee liability.” According to CTIA's figures, CMRS subscribership was approximately 109 million in December 2000, not 90 million, as we estimated. We will revise our fee computation for CMRS. The recent Local Telephone Competition Report, Status as of December 31, 2000, Industry Analysis Division, Common Carrier Bureau (May 21, 2001), has presented a revised figure for CMRS subscribership of 101,212,054. It is appropriate for us to take this new information into account and revise our fee computation accordingly. Our past experience, however, does not support CTIA's claim that use of its own data is necessary to avoid overpayment by CMRS operators. On the contrary, use of its data has resulted in a shortfall in the fees collected. See Assessment and Collection of Regulatory Fees for Fiscal Year 1999, FCC 00-352 (October 10, 2000) at paragraph 7. Accordingly, we modify our estimate of CMRS subscribership to 101 million, resulting in a recomputed fee of $0.27.

d. UHF Television

27. Paxson Communications Corporation (“Paxson”) asserts that fees for UHF television are excessive. In particular, Paxson observes that the fee for UHF construction permits has increased 43 percent over FY 2000 and is now $1,000 higher than for a VHF construction permit (although Congress originally set lower fees for UHF). Paxson asserts that increases in UHF fees are inconsistent with the more favorable treatment of faster growing services, which presumably receive greater regulatory benefits and impose greater regulatory costs. In Paxson's view, UHF television fees should reflect the heavy burden that licensees bear during the digital transition period, UHF's competitive handicaps, and the impact on UHF of downturns in the economy. Paxson asks for interim relief pending the adoption of an adequate cost accounting system.

28. Although Paxson's arguments raise significant questions, they do not provide a reasonably definite basis to recompute fees for UHF television. We therefore decline to make a “permitted” amendment in FY 2001. We anticipate that development of a new cost accounting system will be in place for FY 2002 and, at that time, we can re-examine the UHF television fees, as well as other issues.

e. INTELSAT Satellites

29. On June 1, 2001, COMSAT Corporation (COMSAT) submitted an ex parte filing asking the Commission not to impose the geostationary satellite fee on satellites owned by INTELSAT. COMSAT notes that it has appealed the Commission's determination that COMSAT is liable for such fees, and urges that the fee not be collected pending the disposition of this appeal. See Assessment and Collection of Regulatory Fees for Fiscal Year 2000, 15 FCC Rcd 14478, 14485-90, paragraphs 17-27 (2000), appealed sub nom. COMSAT Corp. v. FCC, No. 00-1458 (D.C. Cir. July 14, 2000). For the reasons set for in the FY 2000 fee order, we believe that the fee should be assessed against COMSAT. COMSAT has not sought a stay of the FY 2000 fee order, either before the Commission or the court, and has not demonstrated the prerequisites for a stay. Accordingly, we have included the INTELSAT satellites in our computation of the geostationary satellite fee, and we expect COMSAT to pay its share.

f. Mandatory Use of FCC Registration Number (FRN)

30. In our Notice of Proposed Rulemaking (NPRM), we proposed to require the use of an FRN by anyone subject to the regulatory fee program. We proposed that fee filers, those who are exempt from regulatory fees, and entities paying on behalf of others, be required to obtain and use the FRNs assigned to them. Furthermore, we sought comment on how to treat submissions that did not contain an FRN at the time that regulatory fee payments are due. We proposed that in those situations, we would afford a 10-day grace period for the filer to obtain and provide the FRN. Finally, we invited comment on whether to impose a penalty on entities subject to these rules, but who did not provide an FRN within the grace period.

31. We did not receive any comments on these issues. We remain convinced that the use of the FRN should be made mandatory for those who are subject to the regulatory fee program, as proposed. Because of unrelated implementation issues, we have decided to resolve the FRN issues raised here, including the effective date of the new requirement, in the pending FRN proceeding.¹⁸ Although the use of the FRN will not be mandatory for the FY 2001 regulatory fee cycle, we strongly encourage entities subject to the regulatory fee program to use the FRN assigned to them so that their payments (or exempt status) can be properly recorded and tracked. Entities not using an FRN may continue to experience delays in the proper recognition of their payments. As a result, these entities (or the entities on whose behalf the payment is being made) will be subject to billing notices and will need to provide information (e.g. cancelled check or other identifying information) showing that they did, in fact, pay their regulatory fees on a timely basis.

¹⁸ Adoption of a Mandatory FCC Registration Number, MD Docket No. 00-205, FCC 00-421 (released December 1, 2000).

C. Procedures for Payment of Regulatory Fees

32. We are retaining the procedures that we have established for the payment of regulatory fees. See paragraphs 32-37. Section 9(f) requires that we permit “payment by installments in the case of fees in large amounts, and in the case of small amounts, shall require the payment of the fee in advance for a number of years not to exceed the term of the license held by the payer.” See 47 U.S.C. 159(f)(1). Consistent with section 9(f), we are again establishing three categories of fee payments, based upon the category of service for which the fee payment is due and the amount of the fee to be paid. The fee categories are: (1) “standard” fees, (2) “large” fees, and (3) “small” fees. With the exception of new payment due dates for FY 2001, the procedures outlined in this section are not new. Procedural text is provided for information and purposes of clarity.

i. Annual Payments of Standard Fees

33. As we have in the past, we are treating regulatory fee payments by certain licensees as “standard fees” which are those regulatory fees that are payable in full on an annual basis. Payers of standard fees are not required to make advance payments for their full license term and are not eligible for installment payments. All standard fees are payable in full on the date we establish for payment of fees in their regulatory fee category. The payment dates for each regulatory fee category will begin September 10, 2001 and end at close of business on September 21, 2001.

ii. Installment Payments for Large Fees

34. Time constraints will preclude an opportunity for installment payments. Therefore, regulatees in any category of service will be required to submit their required fees in a single payment by the last day that the regulatory fee payment is due. The payment dates for each regulatory fee category will begin September 10, 2001 and end at close of business on September 21, 2001.

iii. Advance Payments of Small Fees

35. As we have in the past, we are treating regulatory fee payments by certain licensees as “small” fees subject to advance payment consistent with the requirements of section 9(f)(2). Advance payments will be required from licensees of those services that we decided would be subject to advance payments in our FY 1994 Report and Order, and to those additional payers noted.¹⁹ Payers of advance fees will submit the entire fee due for the full term of their licenses when filing their initial, renewal, or reinstatement application. Regulatees subject to a payment of small fees shall pay the amount due for the current fiscal year multiplied by the number of years in the term of their requested license. In the event that the required fee is adjusted following their payment of the fee, the payer would not be subject to the payment of a new fee until filing an application for renewal or reinstatement of the license. Thus, payment for the full license term would be made based upon the regulatory fee applicable at the time the application is filed. The effective beginning date for payment of small fees established in this proceeding is September 10, 2001, and it will remain in effect until the FY 2002 fee schedule is implemented.

¹⁹ Applicants for new, renewal and reinstatement licenses in the following services will be required to pay their regulatory fees in advance: Land Mobile Services, Microwave Services, Marine (Ship) Service, Marine (Coast) Service, Private Land Mobile (Other) Services, Aviation (Aircraft) Service, Aviation (Ground) Service, General Mobile Radio Service (GMRS), 218-219 MHz Service (if any applications should be filed), Rural Radio Service, and Amateur Vanity Call signs.

iv. Minimum Fee Payment Liability

36. As we have in the past, we are establishing that regulatees whose total regulatory fee liability, including all categories of fees for which payment is due by an entity, amounts to less than $10 will be exempted from fee payment in FY 2001.

v. Standard Fee Calculations and Payment Dates

37. For licensees and permittees of Mass Media services, the responsibility for payment of regulatory fees normally rests with the holder of the permit or license on October 1, 2000. However, in instances where a Mass Media service license or authorization is transferred or assigned after October 1, 2000, and arrangements to make payment have not been made by the previous licensee, the fee is still due and must be paid by the licensee or holder of the authorization on the date that the fee payment is due. For licensees, permittees and holders of other authorizations in the Common Carrier and Cable Services whose fees are not based on a subscriber, unit, or circuit count, fees must be paid for any authorization issued on or before October 1, 2000. Regulatory fees are due and payable by the holder of record of the license or permit of the service as of October 1, 2000. A pending change in the status of a license or permit that is not granted as of that date is not effective, and the fee is based on the classification that existed on that date. Where a license or authorization is transferred or assigned after October 1, 2000, the fee shall be paid by the licensee or holder of the authorization on the date that the payment is due.

38. For regulatees whose fees are based upon a subscriber, unit or circuit count, the number of a regulatees' subscribers, units or circuits on December 31, 2000, will be used to calculate the fee payment.²⁰ Regulatory fees are due and payable by the holder of record of the license or permit of the service as of December 31, 2000. A pending change in the status of a license or permit that is not granted as of that date is not effective, and the fee is based on the classification that existed on that date. Where a license or authorization is transferred or assigned after December 31, 2000, the fee shall be paid by the licensee or holder of the authorization on the date that the payment is due.

²⁰ Cable system operators are to compute their subscribers as follows: Number of single family dwellings + number of individual households in multiple dwelling unit (apartments, condominiums, mobile home parks, etc.) paying at the basic subscriber rate + bulk rate customers + courtesy and free service. Note: Bulk-Rate Customers = Total annual bulk-rate charge divided by basic annual subscription rate for individual households. Cable system operators may base their count on “a typical day in the last full week” of December 2000, rather than on a count as of December 31, 2000.

D. Schedule of Regulatory Fees

39. The Commission's Schedule of Regulatory Fees for FY 2001 is contained in Attachment D of this Report and Order.

E. Revised Rules for Waivers, Reductions, and Deferrals of Application and Regulatory Fees

40. We are also amending §§ 1.1117(c) and 1.1166(a) of the Rules regarding the filing of requests for waivers, reductions and deferrals of both application (Section 8) and regulatory fees (Section 9). We are amending the rules to clarify that all such filings must be filed as separate pleadings, and each pleading must be clearly marked for the attention of the Managing Director. We hope the revised rules will eliminate the confusion regarding the proper filing procedures to be followed for such requests, as well as to facilitate prompt disposition.

F. Enforcement

41. As required in 47 U.S.C. 159(c), an additional charge shall be assessed as a penalty for late payment of any regulatory fee. A late payment penalty of 25 percent of the amount of the required regulatory fee will be assessed on the first day following the deadline date for filing of these fees. Failure to pay the regulatory fees and/or any late penalty will be subject to additional provisions as set forth in the Debt Collection Improvement Act of 1996, as well as 47 CFR 1.1112.

IV. Procedural Matters

A. Ordering Clause

42. Accordingly, it is ordered that the rule changes specified herein be adopted. It is further ordered that the rule changes made herein will become effective September 9, 2001, which is no less than 30 days from the date of publication in the Federal Register. A Final Regulatory Flexibility Analysis (FRFA) has been performed and is found in Attachment A, and it is ordered that the Federal Communications Commission's Consumer Information Bureau, Reference Information Center, send this to Small Business Administration (SBA). Finally, it is ordered that this proceeding is terminated.

B. Authority and Further Information

43. This action is taken pursuant to sections 4(i) and (j), 8, 9, and 303(r) of the Communications Act of 1934, as amended.²¹

²¹ 47 U.S.C. 154(i)-(j), 159, & 303(r).

44. Further information about this proceeding may be obtained by contacting the FCC Consumer Center at (888) 225-5322.

Federal Communications Commission.
Magalie Roman Salas,
Secretary.

Attachment A.—Final Regulatory Flexibility Analysis

1. As required by the Regulatory Flexibility Act (RFA),²² an Initial Regulatory Flexibility Analysis (IRFA) of the possible significant economic impact on small entities was incorporated in the Notice of Proposed Rulemaking, In the Matter of Assessment and Collection of Regulatory Fees for Fiscal Year 2001.²³ The Commission sought written public comments on the proposals in its FY 2001 regulatory fees NPRM, including comments on the IRFA. This present Final Regulatory Flexibility Analysis (FRFA) conforms to the RFA.²⁴

²² 5 U.S.C. 603. The RFA, 5 U.S.C. 601 et. seq. has been amended by the Contract With America advancement Act of 1996, Public Law 104-121, 110 Stat. 847 (1996) (CWAAA). Title II of the CWAAA is the Small Business Regulatory Enforcement Fairness Act of 1996 (SBREFA).

²³ 66 FR 19681 (April 16, 2001).

²⁴ 5 U.S.C. 604.

I. Need for, and Objectives of, the Proposed Rules

2. This rulemaking proceeding was initiated to collect regulatory fees in the amount of $200,146,000, the amount that Congress has required the Commission to recover. The Commission seeks to collect the necessary amount through its revised fees, as contained in the attached Schedule of Regulatory Fees, in the most efficient manner possible and without undue burden on the public.

II. Summary of Significant Issues Raised by Public Comments in Response to the IRFA

3. None.

III. Description and Estimate of the Number of Small Entities to Which the Proposed Rules Will Apply

4. The RFA directs agencies to provide a description of and, where feasible, an estimate of the number of small entities that may be affected by the proposed rules, if adopted.²⁵ The RFA defines the term “small entity” as having the same meaning as the terms “small business,” “small organization,” and “small governmental jurisdiction.”²⁶ In addition, the term “small business” has the same meaning as the term “small business concern” under the Small Business Act.²⁷ A small business concern is one which: (1) Is independently owned and operated; (2) is not dominant in its field of operation; and (3) satisfies any additional criteria established by the Small Business Administration (SBA).²⁸ A small organization is generally “any not-for-profit enterprise which is independently owned and operated and is not dominant in its field.”²⁹ Nationwide, as of 1992, there were approximately 275,801 small organizations.³⁰ “Small governmental jurisdiction”³¹ generally means “governments of cities, counties, towns, townships, villages, school districts, or special districts, with a population of less than 50,000.”³² As of 1992, there were approximately 85,006 governmental entities in the United States.³³ This number includes 38,978 counties, cities, and towns; of these, 37,566, or 96%, have populations of fewer than 50,000.³⁴ The Census Bureau estimates that this ratio is approximately accurate for all governmental entities. Thus, of the 85,006 governmental entities, we estimate that 81,600 (96%) are small entities. Below, we further describe and estimate the number of small entity licensees and regulatees that may be affected by these rules.

²⁵ 5 U.S.C. 603(b)(3).

²⁶ 5 U.S.C. 601(6).

²⁷ 5 U.S.C. 601(3) (incorporating by reference the definition of “small business concern” in 15 U.S.C. 632). Pursuant to the RFA, the statutory definition of a small business applies “unless an agency, after consultation with the Office of Advocacy of the Small Business Administration and after opportunity for public comment, establishes one or more definitions of such term which are appropriate to the activities of the agency and publishes such definition(s) in the Federal Register.” 5 U.S.C. 601(3).

²⁸ Small Business Act, 15 U.S.C. 632 (1996).

²⁹ U.S.C. 601(4).

³⁰ 1992 Economic Census, U.S. Bureau of the Census. Table 6 (special tabulation of data under contract to Office of Advocacy of the U.S. Small Business Administration).

³¹ 47 CFR 1.1162.

³² 5 U.S.C. 601(5).

³³ U.S. Dept. of Commerce, Bureau of Census, “1992 Census of Governments.”

³⁴ Id.

Cable Services or Systems

5. The SBA has developed a definition of small entities for cable and other pay television services, which includes all such companies generating $11 million or less in revenue annually.³⁵ This definition includes cable systems operators, closed circuit television services, direct broadcast satellite services, multipoint distribution systems, satellite master antenna systems and subscription television services. According to the Census Bureau data from 1992, there were 1,788 total cable and other pay television services and 1,423 had less than $11 million in revenue.³⁶

³⁵ 13 CFR 121.201, North American Industry Classification System (NAICS) codes 51321 and 51322.

³⁶ 1992 Economic Census Industry and Enterprise Receipts Size Report, Table 2D, NAICS codes 51321 and 51322 (U.S. Bureau of the Census data under contract to the Office of Advocacy of the U.S. Small Business Administration).

6. The Commission has developed its own definition of a small cable system operator for purposes of rate regulation. Under the Commission's rules, a “small cable company” is one serving fewer than 400,000 subscribers nationwide.³⁷ Based on our most recent information, we estimate that there were 1,439 cable operators that qualified as small cable system operators at the end of 1995.³⁸ Since then, some of those companies may have grown to serve over 400,000 subscribers, and others may have been involved in transactions that caused them to be combined with other cable operators. Consequently, we estimate that there are fewer than 1,439 small entity cable system operators.

³⁷ 47 CFR 76.901(e). The Commission developed this definition based on its determination that a small cable system operator is one with annual revenues of $100 million or less. Implementation of Sections of the 1992 Cable Act: Rate Regulation, Sixth Report and Order and Eleventh Order on Reconsideration, 10 FCC Rcd 7393 (1995), 60 FR 10534 (Feb. 27, 1995).

³⁸ Paul Kagan Associates, Inc., Cable TV Investor, Feb. 29, 1996 (based on figures for Dec. 30, 1995).

7. The Communications Act of 1934, as amended, also contains a definition of a small cable system operator, which is “a cable operator that, directly or through an affiliate, serves in the aggregate fewer than 1 percent of all subscribers in the United States and is not affiliated with any entity or entities whose gross annual revenues in the aggregate exceed $250,000,000.”³⁹ The Commission has determined that there are 67,700,000 subscribers in the United States.⁴⁰ Therefore, we estimate that an operator serving fewer than 677,000 subscribers shall be deemed a small operator, if its annual revenues, when combined with the total annual revenues of all of its affiliates, do not exceed $250 million in the aggregate.⁴¹ Based on available data, we estimate that the number of cable operators serving 677,000 subscribers or less totals 1,450.⁴² We do not request nor collect information on whether cable system operators are affiliated with entities whose gross annual revenues exceed $250,000,000,⁴³ and therefore are unable at this time to estimate more accurately the number of cable system operators that would qualify as small cable operators under the definition in the Communications Act.

³⁹ 47 U.S.C. 543(m)(2).

⁴⁰ Annual Assessment of the Status on Competition in the Market for the Delivery of Video Programming, CS Docket No. 00-132, Seventh Annual Report, FCC 01-1 (released January 8, 2001), Table C-1.

⁴¹ Id. 47 CFR 76.1403(b).

⁴² FCC Announces New Subscriber Count for the Definition of Small Cable Operator, Public Notice, DA-01-0158 (released January 24, 2001).

⁴³ We do receive such information on a case-by-case basis only if a cable operator appeals a local franchise authority's finding that the operator does not qualify as a small cable operator pursuant to § 76.1403(b) of the Commission's rules. See 47 CFR 76.1403(d).

8. Other Pay Services. Other pay television services are also classified under the North American Industry Classification System (NAICS) codes 51321 and 51322, which includes cable systems operators, closed circuit television services, direct broadcast satellite services (DBS),⁴⁴ multipoint distribution systems (MDS),⁴⁵ satellite master antenna systems (SMATV), and subscription television services.

⁴⁴ Direct Broadcast Services (DBS) are discussed with the international services, infra.

⁴⁵ Multipoint Distribution Services (MDS) are discussed with the mass media services, infra.

Common Carrier Services and Related Entities

9. The most reliable source of information regarding the total numbers of certain common carrier and related providers nationwide appears to be data the Commission publishes annually in its Carrier Locator report, which encompasses data compiled from FCC Form 499-A Telecommunications Reporting Worksheets.⁴⁶ According to data in the most recent report, there are 4,822 interstate service providers.⁴⁷ These providers include, inter alia, incumbent local exchange carriers, competitive access providers (CAPS)/competitive local exchange carriers (CLECs), local resellers and other local exchange carriers, interexchange carriers, operator service providers, prepaid calling card providers, toll resellers, and other toll carriers.

⁴⁶ FCC, Common Carrier Bureau, Industry Analysis Division, Carrier Locator: Interstate Service Providers, Table 1 (October 2000) (Carrier Locator).

⁴⁷ FCC, Carrier Locator at Table 1.

10. We have included small incumbent local exchange carriers (LECs) ⁴⁸ in this present RFA analysis. As noted above, a “small business” under the RFA is one that, inter alia, meets the pertinent small business size standard (e.g., a telephone communications business having 1,500 or fewer employees), and “is not dominant in its field of operation.” ⁴⁹ The SBA's Office of Advocacy contends that, for RFA purposes, small incumbent LECs are not dominant in their field of operation because any such dominance is not “national” in scope.⁵⁰ We have therefore included small incumbent LECs in this RFA analysis, although we emphasize that this RFA action has no effect on Commission analyses and determinations in other, non-RFA contexts.

⁴⁸ See 47 U.S.C 251(h) (defining “incumbent local exchange carrier”).

⁴⁹ 5 U.S.C. 601(3).

⁵⁰ Letter from Jere W. Glover, Chief Counsel for Advocacy, SBA, to William E. Kennard, Chairman, FCC (May 27, 1999). The Small Business Act contains a definition of “small business concern,” which the RFA incorporates into its own definition of “small business.” See 15 U.S.C. 632(a) (Small Business Act); 5 U.S.C. 601(3) (RFA). SBA regulations interpret “small business concern” to include the concept of dominance on a national basis. 13 CFR 121.102(b). Since 1996, out of an abundance of caution, the Commission has included small incumbent LECs in its regulatory flexibility analyses. See, e.g., Implementation of the Local Competition Provisions of the Telecommunications Act of 1996, CC Docket, 96-98, First Report and Order, 11 FCC Rcd 15499, 16144-45 (1996), 61 FR 45476 (Aug. 29, 1996).

11. Total Number of Telephone Companies Affected. The Census Bureau reports that, at the end of 1992, there were 3,497 firms engaged in providing telephone services, as defined therein, for at least one year.⁵¹ This number contains a variety of different categories of carriers, including local exchange carriers, interexchange carriers, competitive access providers, operator service providers, pay telephone operators, and resellers. It seems certain that some of these 3,497 telephone service firms may not qualify as small entities or small incumbent LECs because they are not “independently owned and operated.” ⁵² It seems reasonable to conclude that fewer than 3,497 telephone service firms are small entity telephone service firms or small incumbent LECs that may be affected by these revised rules.

⁵¹ U.S. Department of Commerce, Bureau of the Census, 1992 Census of Transportation, Communications, and Utilities: Establishment and Firm Size, at Firm Size 1-123 (1995) (1992 Census).

⁵² See generally 15 U.S.C. 632(a)(1).

12. Wireline Carriers and Service Providers. The SBA has developed a definition of small entities for telephone communications companies other than radiotelephone (wireless) companies. The Census Bureau reports that there were 2,321 such telephone companies in operation for at least one year at the end of 1992.⁵³ According to the SBA's definition, a small business telephone company other than a radiotelephone (wireless) company is one employing no more than 1,500 persons.⁵⁴ All but 26 of the 2,321 non-radiotelephone (wireless) companies listed by the Census Bureau were reported to have fewer than 1,000 employees. Even if all 26 of the remaining companies had more than 1,500 employees, there would still be 2,295 non-radiotelephone (wireless) companies that might qualify as small entities or small incumbent LECs. Although it seems certain that some of these carriers are not independently owned and operated, we are unable at this time to estimate with greater precision the number of wireline carriers and service providers that would qualify as small business concerns under SBA's definition. Therefore, we estimate that fewer than 2,295 small telephone communications companies other than radiotelephone (wireless) companies are small entities or small incumbent LECs that may be affected by these revised rules.

⁵³ 1992 Census, supra, at Firm Size 1-123.

⁵⁴ 13 CFR 121.201, NAICS codes 51331, 51333, and 51334.

13. Local Exchange Carriers (LECS), Competitive Access Providers (CAPs), Interexchange Carriers (IXCs), Operator Service Providers (OSPs), Payphone Providers, and Resellers. Neither the Commission nor the SBA has developed a definition for small LECs, competitive access providers (CAPs), interexchange carriers (IXCs), operator service providers (OSPs), payphone providers, or resellers. The closest applicable definition for these carrier-types under SBA rules is for telephone communications companies other than radiotelephone (wireless) companies.⁵⁵ The most reliable source of information that we know regarding the number of these carriers nationwide appears to be the data that we collect annually in connection with the TRS.⁵⁶ According to our most recent data, there are 1,395 incumbent and other LECs, 349 CAPs and competitive local exchange carriers (CLECs), 204 IXCs, 21 OSPs, 758 payphone providers, 21 prepaid calling card providers, 17 other toll carriers, and 541 local and toll resellers.⁵⁷ Although it seems certain that some of these carriers are not independently owned and operated, or have more than 1,500 employees, we are unable at this time to estimate with greater precision the number of these carriers that would qualify as small business concerns under the SBA's definition. Therefore, we estimate that there are fewer than 1,395 small entity incumbent and other LECs, 349 CAPs/CLECs, 204 IXCs, 21 OSPs, 758 payphone providers, and 541 local and toll resellers that may be affected by these revised rules.

⁵⁵ 13 CFR 121.201, NAICS codes 51331, 51333, and 51334.

⁵⁶ See Carrier Locator at Table 1.

⁵⁷ Carrier Locator at Table 1. The total for resellers includes both toll resellers and local resellers.

International Services

14. The Commission has not developed a definition of small entities applicable to licensees in the international services. Therefore, the applicable definition of small entity is generally the definition under the SBA rules applicable to Communications Services, Not Elsewhere Classified (NEC).⁵⁸ This definition provides that a small entity is expressed as one with $11.0 million or less in annual receipts.⁵⁹ According to the Census Bureau, there were a total of 848 communications services providers, NEC, in operation in 1992, and a total of 775 had annual receipts of less than $10.0 million.⁶⁰ The Census report does not provide more precise data.

⁵⁸ An exception is the Direct Broadcast Satellite (DBS) Service, infra.

⁵⁹ 13 CFR 121.201, NAICS codes 48531, 513322, 51334, and 51339.

⁶⁰ 1992 Economic Census Industry and Enterprise Receipts Size Report, Table 2D, NAICS codes 48531, 513322, 51334, and 513391 (U.S. Bureau of the Census data under contract to the Office of Advocacy of the U.S. Small Business Administration).

15. International Broadcast Stations. Commission records show that there are 17 international high frequency broadcast station authorizations. We do not request nor collect annual revenue information, and are unable to estimate the number of international high frequency broadcast stations that would constitute a small business under the SBA definition. However, the Commission estimates that only five international high frequency broadcast stations are subject to regulatory fee payments.

16. International Public Fixed Radio (Public and Control Stations). There is one licensee in this service subject to payment of regulatory fees, and the licensee does not constitute a small business under the SBA definition.

17. Fixed Satellite Transmit/Receive Earth Stations. There are approximately 2,784 earth station authorizations, a portion of which are Fixed Satellite Transmit/Receive Earth Stations. We do not request nor collect annual revenue information, and are unable to estimate the number of the earth stations that would constitute a small business under the SBA definition.

18. Fixed Satellite Small Transmit/Receive Earth Stations. There are approximately 2,784 earth station authorizations, a portion of which are Fixed Satellite Small Transmit/Receive Earth Stations. We do not request nor collect annual revenue information, and are unable to estimate the number of fixed small satellite transmit/receive earth stations that would constitute a small business under the SBA definition.

19. Fixed Satellite Very Small Aperture Terminal (VSAT) Systems. These stations operate on a primary basis, and frequency coordination with terrestrial microwave systems is not required. Thus, a single “blanket” application may be filed for a specified number of small antennas and one or more hub stations. There are 492 current VSAT System authorizations. We do not request nor collect annual revenue information, and are unable to estimate the number of VSAT systems that would constitute a small business under the SBA definition.

20. Mobile Satellite Earth Stations. There are 15 licensees. We do not request nor collect annual revenue information, and are unable to estimate the number of mobile satellite earth stations that would constitute a small business under the SBA definition.

21. Radio Determination Satellite Earth Stations. There are four licensees. We do not request nor collect annual revenue information, and are unable to estimate the number of radio determination satellite earth stations that would constitute a small business under the SBA definition.

22. Space Stations (Geostationary). There are presently 66 Geostationary Space Station authorizations. We do not request nor collect annual revenue information, and are unable to estimate the number of geostationary space stations that would constitute a small business under the SBA definition.

23. Space Stations (Non-Geostationary). There are presently six Non-Geostationary Space Station authorizations, of which only three systems are operational. We do not request nor collect annual revenue information, and are unable to estimate the number of non-geostationary space stations that would constitute a small business under the SBA definition.

24. Direct Broadcast Satellites. Because DBS provides subscription services, DBS falls within the SBA-recognized definition of “Cable and Other Pay Television Services.” ⁶¹ This definition provides that a small entity is one with $11.0 million or less in annual receipts.⁶² Currently, there are nine DBS authorizations, though there are only two DBS companies in operation at this time. We do not request nor collect annual revenue information for DBS services, and are unable to determine the number of DBS operators that would constitute a small business under the SBA definition.

⁶¹ 13 CFR 121.201, NAICS codes 51321 and 51322.

⁶² 13 CFR 121.201, NAICS codes 51321 and 51322.

Mass Media Services

25. Commercial Radio and Television Services. The proposed rules and policies will apply to television broadcasting licensees and radio broadcasting licensees.⁶³ The SBA defines a television broadcasting station that has $10.5 million or less in annual receipts as a small business.⁶⁴ Television broadcasting stations consist of establishments primarily engaged in broadcasting visual programs by television to the public, except cable and other pay television services.⁶⁵ Included in this industry are commercial, religious, educational, and other television stations.⁶⁶ Also included are establishments primarily engaged in television broadcasting and which produce taped television program materials.⁶⁷ Separate establishments primarily engaged in producing taped television program materials are classified under another NAICS number.⁶⁸ There were 1,509 television stations operating in the nation in 1992.⁶⁹ That number has remained fairly constant as indicated by the approximately 1,663 operating television broadcasting stations in the nation as of September 30, 2000.⁷⁰ For 1992,⁷¹ the number of television stations that produced less than $10.0 million in revenue was 1,155 establishments.⁷² Only commercial stations are subject to regulatory fees.

⁶³ While we tentatively believe that the SBA's definition of “small business” greatly overstates the number of radio and television broadcast stations that are small businesses and is not suitable for purposes of determining the impact of the proposals on small television and radio stations, for purposes of this NPRM we utilize the SBA's definition in determining the number of small businesses to which the proposed rules would apply. We reserve the right to adopt, in the future, a more suitable definition of “small business” as applied to radio and television broadcast stations or other entities subject to the proposed rules in this NPRM, and to consider further the issue of the number of small entities that are radio and television broadcasters or other small media entities. See Report and Order in MM Docket No. 93-48 (Children's Television Programming), 11 FCC Rcd 10660, 10737-38 (1996), 61 FR 43981 (Aug. 27, 1996), citing 5 U.S.C. 601(3).

⁶⁴ 13 CFR 121.201, NAICS code 51312.

⁶⁵ Economics and Statistics Administration, Bureau of Census, U.S. Department of Commerce, 1992 Census of Transportation, Communications and Utilities, Establishment and Firm Size, Series UC92-S-1, Appendix A-9 (1995) (1992 Census, Series UC92-S-1).

⁶⁶ Id. see Executive Office of the President, Office of Management and Budget, Standard Industrial Classification Manual (1987), at 283, which describes “Television Broadcasting Stations” (SIC code 4833, now NAICS code 51312) as:

Establishments primarily engaged in broadcasting visual programs by television to the public, except cable and other pay television services. Included in this industry are commercial, religious, educational and other television stations. Also included here are establishments primarily engaged in television broadcasting and which produce taped television program materials.

⁶⁷ 1992 Census, Series UC92-S-1, at Appendix A-9.

⁶⁸ Id., NAICS code 51211 (Motion Picture and Video Tape Production); NAICS 51229 (Theatrical Producers and Miscellaneous Theatrical Services) (producers of live radio and television programs).

⁶⁹ FCC News Release No. 31327 (January 13, 1993); 1992 Census, Series UC92-S-1, at Appendix A-9.

⁷⁰ FCC News Release, “Broadcast Station Totals as of September 30, 2000.”

⁷¹ A census to determine the estimated number of Communications establishments is performed every five years, in years ending with a “2” or “7.” See 1992 Census, Series UC92-S-1, at III.

⁷² The amount of $10 million was used to estimate the number of small business establishments because the relevant Census categories stopped at $9,999,999 and began at $10,000,000. No category for $10.5 million existed. Thus, the number is as accurate as it is possible to calculate with the available information.

26. Additionally, the SBA defines a radio broadcasting station that has $5 million or less in annual receipts as a small business.⁷³ A radio broadcasting station is an establishment primarily engaged in broadcasting aural programs by radio to the public.⁷⁴ Included in this industry are commercial, religious, educational, and other radio stations.⁷⁵ Radio broadcasting stations, which primarily are engaged in radio broadcasting and which produce radio program materials, are similarly included.⁷⁶ However, radio stations which are separate establishments and are primarily engaged in producing radio program material are classified under another NAICS number.⁷⁷ The 1992 Census indicates that 96 percent (5,861 of 6,127) of radio station establishments produced less than $5 million in revenue in 1992.⁷⁸ Official Commission records indicate that a total of 11,334 individual radio stations were operating in 1992.⁷⁹ As of September 30, 2000, Commission records indicate that a total of 12,717 radio stations were operating, of which 8,032 were FM stations.⁸⁰ Only commercial stations are subject to regulatory fees.

⁷³ 13 CFR 121.201, NAICS codes 513111 and 513112.

⁷⁴ 1992 Census, Series UC92-S-1, at Appendix A-9.

⁷⁵ Id.

⁷⁶ Id.

⁷⁷ Id.

⁷⁸ The Census Bureau counts radio stations located at the same facility as one establishment. Therefore, each co-located AM/FM combination counts as one establishment.

⁷⁹ FCC News Release, No. 31327 (Jan. 13, 1993).

⁸⁰ FCC News Release, “Broadcast Station Totals as of September 30, 2000.”

27. The rules may affect an estimated total of 1,663 television stations, approximately 1,281 of which are considered small businesses.⁸¹ The revised rules will also affect an estimated total of 12,717 radio stations, approximately 12,209 of which are small businesses.⁸² These estimates may overstate the number of small entities because the revenue figures on which they are based do not include or aggregate revenues from non-television or non-radio affiliated companies. There are also 2,366 low power television stations (LPTV).⁸³ Given the nature of this service, we will presume that all LPTV licensees qualify as small entities under the SBA definition.

⁸¹ We use an estimated figure of 77 percent (from 1992) of TV stations operating at less than $10 million and apply it to the 2000 total of 1,663 TV stations to arrive at 1,281 stations categorized as small businesses.

⁸² We use the 96% figure of radio station establishments with less than $5 million revenue from data presented in the year 2000 estimate (FCC News Release, September 30, 2000) and apply it to the 12,717 individual station count to arrive at 12,209 individual stations as small businesses.

⁸³ FCC News Release, “Broadcast Station Totals as of September 30, 2000.”

28. Auxiliary, Special Broadcast and Other Program Distribution Services. This service involves a variety of transmitters, generally used to relay broadcast programming to the public (through translator and booster stations) or within the program distribution chain (from a remote news gathering unit back to the station). The Commission has not developed a definition of small entities applicable to broadcast auxiliary licensees. The applicable definitions of small entities are those, noted previously, under the SBA rules applicable to radio broadcasting stations and television broadcasting stations.⁸⁴

⁸⁴ 13 CFR 121.201, NAICS codes 513111 and 513112.

29. The Commission estimates that there are approximately 2,700 translators and boosters. The Commission does not collect financial information on any broadcast facility, and the Department of Commerce does not collect financial information on these auxiliary broadcast facilities. We believe that most, if not all, of these auxiliary facilities could be classified as small businesses by themselves. We also recognize that most commercial translators and boosters are owned by a parent station which, in some cases, would be covered by the revenue definition of small business entity discussed above. These stations would likely have annual revenues that exceed the SBA maximum to be designated as a small business (either $5 million for a radio station or $10.5 million for a TV station). Furthermore, they do not meet the Small Business Act's definition of a “small business concern” because they are not independently owned and operated.⁸⁵

⁸⁵ 15 U.S.C. 632.

30. Multipoint Distribution Service (MDS). This service has historically provided primarily point-to-multipoint, one-way video services to subscribers.⁸⁶ The Commission recently amended its rules to allow MDS licensees to provide a wide range of high-speed, two-way services to a variety of users.⁸⁷ In connection with the 1996 MDS auction, the Commission defined small businesses as entities that had annual average gross revenues for the three preceding years not in excess of $40 million.⁸⁸ The Commission established this small business definition in the context of this particular service and with the approval of the SBA.⁸⁹ The MDS auction resulted in 67 successful bidders obtaining licensing opportunities for 493 Basic Trading Areas (BTAs).⁹⁰ Of the 67 auction winners, 61 met the definition of a small business. At this time, we estimate that of the 61 small business MDS auction winners, 48 remain small business licensees. In addition to the 48 small businesses that hold BTA authorizations, there are approximately 392 incumbent MDS licensees that are considered small entities.⁹¹ After adding the number of small business auction licensees to the number of incumbent licensees not already counted, we find that there are currently approximately 440 MDS licensees that are defined as small businesses under either the SBA or the Commission's rules. Some of those 440 small business licensees may be affected by the proposals in this Order.

⁸⁶ For purposes of this item, MDS includes both the single channel Multipoint Distribution Service (MDS) includes Local Multipoint Distribution Service (LMDS), and the Multichannel Multipoint Distribution Service (MMDS).

⁸⁷ Amendment of Parts 21 and 74 to Enable Multipoint Distribution Service and Instructional Television Fixed Service Licensees to Engage in Fixed Two-Way Transmissions, 13 FCC Rcd 19112 (1998), recon., 14 FCC Rcd 12764 (1999), further recon., 15 FCC Rcd 14566 (2000).

⁸⁸ 47 CFR 21.961 and 1.2110.

⁸⁹ Amendment of Parts 21 and 74 of the Commission's Rules with Regard to Filing Procedures in the Multipoint Distribution Service and in the Instructional Television Fixed Service and Implementation of Section 309(j) of the Communications Act—Competitive Bidding, 10 FCC Rcd 9589, 9670 (1995), 60 FR 36524 (July 17, 1995).

⁹⁰ Basic Trading Areas (BTAs) were designed by Rand McNally and are the geographic areas by which MDS was auctioned and authorized. See id. At 9608.

⁹¹ 47 U.S.C. 309(j). (Hundreds of stations were licensed to incumbent MDS licensees prior to implementation of Section 309(j) of the Communications Act of 1934, 47 U.S.C. Section 309(j). For these pre-auction licenses, the applicable standard is SBA's small business size standard for “other telecommunications” (annual receipts of $11 million or less). See 13 CFR 121.201.

Wireless and Commercial Mobile Services

31. Cellular Licensees. Neither the Commission nor the SBA has developed a definition of small entities specific to cellular licensees. Therefore, the applicable definition of small entity is the definition under the SBA rules applicable to radiotelephone (wireless) companies. This provides that a small entity is a radiotelephone (wireless) company employing no more than 1,500 persons.⁹² According to the Census Bureau, only twelve radiotelephone (wireless) firms from a total of 1,178 such firms which operated during 1992 had 1,000 or more employees.⁹³ Even if all twelve of these firms were cellular telephone companies, nearly all cellular carriers were small businesses under the SBA's definition. In addition, we note that there are 1,758 cellular licenses; however, a cellular licensee may own several licenses. According to the most recent Telecommunications Reporting Worksheets data, 806 wireless telephony providers reported that they were engaged in the provision of either cellular service, Personal Communications Service (PCS) services, and SMR telephony carriers, which are placed together in the data.⁹⁴ We do not have data specifying the number of these carriers that are not independently owned and operated or have more than 1,500 employees, and are unable at this time to estimate with greater precision the number of cellular service carriers that would qualify as small business concerns under the SBA's definition. We estimate that there are fewer than 806 small wireless service providers that may be affected by these revised rules.

⁹² 13 CFR 121.201, NAICS code 513322.

⁹³ 1992 Census, Series UC92-S-1, at Table 5, NAICS code 513322.

⁹⁴ Trends in Telephone Service, Table 16.3 (December 2000).

32. 220 MHz Radio Service—Phase I Licensees. The 220 MHz service has both Phase I and Phase II licenses. Phase I licensing was conducted by lotteries in 1992 and 1993. There are approximately 1,515 such non-nationwide licensees and four nationwide licensees currently authorized to operate in the 220 MHz band. The Commission has not developed a definition of small entities specifically applicable to such incumbent 220 MHz Phase I licensees. To estimate the number of such licensees that are small businesses, we apply the definition under the SBA rules applicable to Radiotelephone (wireless) Communications companies. This definition provides that a small entity is a radiotelephone (wireless) company employing no more than 1,500 persons.⁹⁵ According to the Census Bureau, only 12 radiotelephone (wireless) firms out of a total of 1,178 such firms which operated during 1992 had 1,000 or more employees.⁹⁶ If this general ratio continues in 2001 in the context of Phase I 220 MHz licensees, we estimate that nearly all such licensees are small businesses under the SBA's definition.

⁹⁵ 13 CFR 121.201, NAICS code 513322.

⁹⁶ U.S. Bureau of the Census, U.S. Department of Commerce, 1992 Census of Transportation, Communications, and Utilities, UC92-S-1, Subject Series, Establishment and Firm Size, Table 5, Employment Size of Firms; 1992, NAICS codes 513321, 513322, and 51333.

33. 220 MHz Radio Service—Phase II Licensees. The Phase II 220 MHz service is a new service, and is subject to spectrum auctions. In the 220 MHz Third Report and Order, 62 FR 16004, April 3, 1997, we adopted criteria for defining small and very small businesses for purposes of determining their eligibility for special provisions such as bidding credits and installment payments.⁹⁷ We have defined a small business as an entity that, together with its affiliates and controlling principals, has average gross revenues not exceeding $15 million for the preceding three years. A very small business is defined as an entity that, together with its affiliates and controlling principals, has average gross revenues that do not exceed $3 million for the preceding three years.⁹⁸ The SBA has approved these definitions.⁹⁹ Auctions of Phase II licenses commenced on September 15, 1998, and closed on October 22, 1998.¹⁰⁰ In the first auction, 908 licenses were auctioned in three different-sized geographic areas: three nationwide licenses, 30 Regional Economic Area Group (EAG) Licenses, and 875 Economic Area (EA) Licenses. Of the 908 licenses auctioned, 693 were sold.¹⁰¹ Thirty-nine small businesses won licenses in the first 220 MHz auction. The second auction included 225 licenses: 216 EA licenses and 9 EAG licenses. Fourteen companies claiming small business status won 158 licenses.¹⁰²

⁹⁷ 220 MHz Third Report and Order, 12 FCC Rcd 10943, 11068-70, at paragraphs 291-295 (1997).

⁹⁸ 220 MHz Third Report and Order, 12 FCC Rcd at 11068-69, paragraph 291.

⁹⁹ See Letter to D. Phython, Chief, Wireless Telecommunications Bureau (FCC) from A. Alvarez, Administrator, SBA (January 6, 1998).

¹⁰⁰ See generally Public Notice, “220 MHz Service Auction Closes,” Public Notice, 14 FCC Rcd 605 (1998).

¹⁰¹ Public Notice, “FCC Announces It is Prepared to Grant 654 Phase II 220 MHz Licenses After Final Payment is Made,” Public Notice, 14 FCC Rcd 1085 (1999).

¹⁰² “Phase II 220 MHz Service Spectrum Auction Closes”, Public Notice, 14 FCC Rcd 11218 (1999).

34. 700 MHz Guard Band Licenses. In the 700 MHz Guard Band Order, we adopted criteria for defining small businesses and very small businesses for purposes of determining their eligibility for special provisions such as bidding credits and installment payments. ¹⁰³ We have defined a small business as an entity that, together with its affiliates and controlling principals, has average gross revenues not exceeding $15 million for the preceding three years. Additionally, a very small business is defined as an entity that, together with its affiliates and controlling principals, has average gross revenues that are not more than $3 million for the preceding three years. An auction of 52 Major Economic Area (MEA) licenses commenced on September 6, 2000, and closed on September 21, 2000.¹⁰⁴ Of the 104 licenses auctioned, 96 licenses were sold to 9 bidders. Five of these bidders were small businesses that won a total of 26 licenses. A second auction of 700 MHz Guard Band licenses commenced on February 13, 2001 and closed on February 21, 2001. All eight of the licenses auctioned were sold to three bidders. One of these bidders was a small business that won a total of two licenses.¹⁰⁵

¹⁰³ See Service Rules for the 746-764 MHz Bands, and Revisions to Part 27 of the Commission's Rules, WT Docket No. 99-168, Second Report and Order, 65 FR 17599 (April 4, 2000).

¹⁰⁴ See generally Public Notice, “220 MHz Service Auction Closes,” Report No. WT 98-36 (Wireless Telecommunications Bureau, October 23, 1998).

¹⁰⁵ “700 MHz Guard Bands Auction Closes,” Public Notice, DA 01-478 (rel. February 22, 2001).

35. Private and Common Carrier Paging. In the Paging Third Report and Order, we adopted criteria for defining small businesses and very small businesses for purposes of determining their eligibility for special provisions such as bidding credits and installment payments.¹⁰⁶ We have defined a small business as an entity that, together with its affiliates and controlling principals, has average gross revenues not exceeding $15 million for the preceding three years. Additionally, a very small business is defined as an entity that, together with its affiliates and controlling principals, has average gross revenues that are not more than $3 million for the preceding three years.¹⁰⁷ The SBA has approved these definitions.¹⁰⁸ An auction of Metropolitan Economic Area licenses commenced on February 24, 2000, and closed on March 2, 2000.¹⁰⁹ Of the 985 licenses auctioned, 440 were sold. Fifty-seven companies claiming small business status won. At present, there are approximately 24,000 Private-Paging site-specific licenses and 74,000 Common Carrier Paging licenses. According to the most recent Telecommunications Industry Revenue data, 172 carriers reported that they were engaged in the provision of either paging or “other mobile” services, which are placed together in the data.¹¹⁰ We do not have data specifying the number of these carriers that are not independently owned and operated or have more than 1,500 employees, and therefore are unable at this time to estimate with greater precision the number of paging carriers that would qualify as small business concerns under the SBA's definition. Consequently, we estimate that there are fewer than 172 small paging carriers that may be affected by these revised rules. We estimate that the majority of private and common carrier paging providers would qualify as small entities under the SBA definition.

¹⁰⁶ 220 MHz Third Report and Order, 62 FR 16004 (April 3, 1997), at paragraphs 291-295.

¹⁰⁷ 700 MHz Guard Band Auction Closes,” Public Notice, 15 FCC Rcd 18026 (2000).

¹⁰⁸ “Revision of Part 22 and Part 90 of the Commission's Rules to Facilitate Future Development of Paging Systems,” Memorandum Opinion and Order on Reconsideration and Third Report and Order, 14 FCC Rcd 10030, at paragraph 98-107 (1999).

¹⁰⁹ “Revision of Part 22 and Part 90 of the Commission's Rules to Facilitate Future Development of Paging Systems,” Memorandum Opinion and Order on Reconsideration and Third Report and Order, 14 FCC Rcd 10030, at paragraph 98 (1999).

¹¹⁰ See Letter to Amy Zoslov, Chief, Auctions and Industry Analysis Division from A. Alvarez, Administrator, SBA (December 2, 1998).

36. Broadband Personal Communications Service (PCS). The broadband PCS spectrum is divided into six frequencies designated A through F, and the Commission has held auctions for each block. The Commission defined “small entity” for Blocks C and F as an entity that has average gross revenues of less than $40 million in the three previous calendar years.¹¹¹ For Block F, an additional classification for “very small business” was added and is defined as an entity that, together with its affiliates, has average gross revenues of not more than $15 million for the preceding three calendar years.¹¹² These regulations defining “small entity” in the context of broadband PCS auctions have been approved by the SBA.¹¹³ No small businesses within the SBA-approved definition bid successfully for licenses in Blocks A and B. There were 90 winning bidders that qualified as small entities in the Block C auctions. A total of 93 small and very small business bidders won approximately 40% of the 1,479 licenses for Blocks D, E, and F.¹¹⁴ On March 23, 1999, the Commission re-auctioned 347 C, D, E, and F Block licenses; there were 48 small business winning bidders. An additional classification for “very small business” was added for C Block and is defined as “an entity that together with its affiliates and persons or entities that hold interest in such entity and their affiliates, has average annual gross revenues that are not more than forty million dollars for the proceding three years.¹¹⁵ The SBA approved this definition.” ¹¹⁶ Based on this information, we conclude that the number of small broadband PCS licensees will include the 90 winning C Block bidders and the 93 qualifying bidders in the D, E, and F blocks, plus the 48 winning bidders in the re-auction, for a total of 231 small entity PCS providers as defined by the SBA and the Commission's auction rules. On January 26, 2001, the Commission completed the auction of 422 C and F Broadband PCS licenses in Auction No. 35. Of the 35 winning bidders in this auction, 29 qualified as small or very small businesses.

¹¹¹ See generally “929 and 931 MHz Paging Auction Closes,” Public Notice, 15 FCC Rcd 4858 (2000).

¹¹² See Amendment of Parts 20 and 24 of the Commission's Rules “ Broadband PCS Competitive Bidding and the Commercial Mobile Radio Service Spectrum Cap, Report and Order, FCC 96-278, WT Docket No. 96-59 Sections 60 (released June 24, 1996), 61 FR 33859 (July 1, 1996).

¹¹³ See, e.g., Implementation of Section 309(j) of the Communications Act—Competitive Bidding, PP Docket No. 93-253, Fifth Report and Order, 9 FCC Rcd 5532, 5581-84 (1994).

¹¹⁴ FCC News, Broadband PCS, D, E and F Block Auction Closes, No. 71744 (released January 14, 1997).

¹¹⁵ See Amendment of the Commission's Rules Regarding Installment Payment Financing for Personal Communications Services (PCS) Licenses, Fourth Report and Order, 13 FCC Rcd 15743 at 15767-68, paragraphs 45-46 (1998).

¹¹⁶ See Letter to Amy Zoslov, Chief, Auctions and Industry Analysis Division from A. Alvarez, Administrator, SBA (December 2, 1998).

37. Narrowband PCS. To date, two auctions of narrowband PCs licenses have been conducted. Through these auctions, the Commission has awarded a total of 41 licenses, out of which 11 were obtained by small businesses. For purposes of the two auctions that have already been held, small businesses were defined as entities with average gross revenues for the prior three calendar years of $40 million or less. To ensure meaningful participation of small business entities in the auctions, the Commission adopted a two-tiered definition of small businesses in the Narrowband PCS Second Report and Order.¹¹⁷ A small business is an entity that, together with affiliates and controlling interests, has average gross revenues for the three preceding years of not more than $40 million. A very small business is an entity that, together with affiliates and controlling interests, has average gross revenues for the three preceding years of not more than $15 million. These definitions have been approved by the SBA.¹¹⁸ In the future, the Commission will auction 459 licenses to serve Metropolitan Trading Areas (MTAs) and 408 response channel licenses. There is also one megahertz of narrowband PCS spectrum that has been held in reserve and that the Commission has not yet decided to release for licensing. The Commission cannot predict accurately the number of licenses that will be awarded to small entities in future auctions. However, four of the 16 winning bidders in the two previous narrowband PCS auctions were small businesses, as that term was defined under the Commission's Rules. The Commission assumes, for purposes of this FRFA, that a large portion of the remaining narrowband PCS licenses will be awarded to small entities. The Commission also assumes that at least some small businesses will acquire narrowband PCS licenses by means of the Commission's partitioning and disaggregation rules.

¹¹⁷ In the Matter of Amendment of the Commission's Rules to Establish New Personal Communications Services, Narrowband PCS, Docket No. ET 92-100, Docket No. PP 93-253, Second Report and Order and Second Further Notice of Proposed Rulemaking, 65 FR 35875 (June 6, 2000).

¹¹⁸ See Letter to Amy Zoslov, Chief, Auctions and Industry Analysis Division from A. Alvarez, Administrator, SBA (December 2, 1998).

38. Rural Radiotelephone Service. The Commission has not adopted a definition of small entity specific to the Rural Radiotelephone Service.¹¹⁹ A significant subset of the Rural Radiotelephone Service is the Basic Exchange Telephone Radio Systems (BETRS).¹²⁰ We will use the SBA's definition applicable to radiotelephone (wireless) companies, i.e., an entity employing no more than 1,500 persons.¹²¹ There are approximately 1,000 licensees in the Rural Radiotelephone Service, and we estimate that almost all of them qualify as small entities under the SBA's definition.

¹¹⁹ The service is defined in § 22.99 of the Commission's Rules, 47 CFR 22.99.

¹²⁰ BETRS is defined in §§ 22.757 and 22.759 of the Commission's Rules, 47 CFR 22.757 and 22.759.

¹²¹ 13 CFR 121.201, NAICS codes 513321, 513322, and 51333.

39. Air-Ground Radiotelephone Service. The Commission has not adopted a definition of small entity specific to the Air-Ground Radiotelephone Service.¹²² We will use the SBA's definition applicable to radiotelephone (wireless) companies, i.e., an entity employing no more than 1,500 persons.¹²³ There are approximately 100 licensees in the Air-Ground Radiotelephone Service, and we estimate that almost all of them qualify as small under the SBA definition.

¹²² The service is defined in § 22.99 of the Commission's Rules, 47 CFR 22.99.

¹²³ 13 CFR 121.201, NAICS codes 513321, 513322, and 51333.

40. Specialized Mobile Radio (SMR). Pursuant to 47 CFR 90.814(b)(1), the Commission has defined “small business” for purposes of auctioning 900 MHz SMR licenses, 800 MHz SMR licenses for the upper 200 channels, and 800 MHz SMR licenses for the lower 230 channels on the 800 MHz band, as a firm that has had average annual gross revenues of $15 million or less in the three preceding calendar years.¹²⁴ The SBA has approved this small business size standard for the 800 MHz and 900 MHz auctions.¹²⁵ Sixty winning bidders for geographic area licenses in the 900 MHz SMR band qualified as small business under the $15 million size standard. The auction of the 525 800 MHz SMR geographic area licenses for the upper 200 channels began on October 28, 1997, and was completed on December 8, 1997.¹²⁶ Ten winning bidders for geographic area licenses for the upper 200 channels in the 800 MHz SMR band qualified as small businesses under the $15 million size standard.¹²⁷ An auction of 800 MHz SMR geographic area licenses for the General Category channels began on August 16, 2000 and was completed on September 1, 2000. Of the 1,050 licenses offered in that auction, 1,030 licenses were sold. Eleven winning bidders for licenses for the General Category channels in the 800 MHz SMR band qualified as small business under the $15 million size standard. In an auction completed on December 5, 2000, a total of 2,800 Economic Area licenses in the lower 80 channels of the 800 MHz SMR service were sold. Of the 22 winning bidders, 19 claimed small business status. Thus, 40 winning bidders for geographic licenses in the 800 MHz SMR band qualified as small businesses. In addition, there are numerous incumbent site-by-site SMR licenses on the 800 and 900 MHz band.

¹²⁴ 47 CFR 90.814(b)(1).

¹²⁵ See Letter to Thomas J. Sugrue, Chief, Wireless Telecommunications Bureau (FCC) from A. Alvarez, Administrator, SBA (August 10, 1999).

¹²⁶ See Letter to Daniel B. Phython, Chief, Wireless Telecommunications Bureau (FCC) from A. Alvarez, Administrator, SBA (October 27, 1997).

¹²⁷ Id.

41. These revised fees in the Report and Order apply to SMR providers in the 800 MHz and 900 MHz bands that either hold geographic area licenses or have obtained extended implementation authorizations. We do not know how many firms provide 800 MHz or 900 MHz geographic area SMR service pursuant to extended implementation authorizations, nor how many of these providers have annual revenues of no more than $15 million. One firm has over $15 million in revenues. We assume, for purposes of this FRFA, that all of the remaining existing extended implementation authorizations are held by small entities, as that term is defined by the SBA.

42. Private Land Mobile Radio (PLMR). PLMR systems serve an essential role in a range of industrial, business, land transportation, and public safety activities. These radios are used by companies of all sizes operating in all U.S. business categories. The Commission has not developed a definition of small entity specifically applicable to PLMR licensees due to the vast array of PLMR users. For the purpose of determining whether a licensee is a small business as defined by the SBA, each licensee would need to be evaluated within its own business area.

43. The Commission is unable at this time to estimate the number of small businesses which could be impacted by the rules. The Commission's 1994 Annual Report on PLMR ¹²⁸ indicates that at the end of fiscal year 1994 there were 1,087,267 licensees operating 12,481,989 transmitters in the PLMR bands below 512 MHz. Because any entity engaged in a commercial activity is eligible to hold a PLMR license, the revised rules in this context could potentially impact every small business in the United States.

¹²⁸ Federal Communications Commission, 60th Annual Report, Fiscal Year 1994, at paragraph 116.

44. Amateur Radio Service. We estimate that 8,000 applicants will apply for vanity call signs in FY 2001. These licensees are presumed to be individuals, and therefore not small entities. All other amateur licensees are exempt from payment of regulatory fees.

45. Aviation and Marine Radio Service. Small businesses in the aviation and marine radio services use a marine very high frequency (VHF) radio, any type of emergency position indicating radio beacon (EPIRB) and/or radar, a VHF aircraft radio, and/or any type of emergency locator transmitter (ELT). The Commission has not developed a definition of small entities specifically applicable to these small businesses. The applicable definition of small entity is the definition under the SBA rules for radiotelephone (wireless) communications.¹²⁹

¹²⁹ 13 CFR 121.201, NAICS codes 513321, 513322, and 51333.

46. Most applicants for recreational licenses are individuals. Approximately 581,000 ship station licensees and 131,000 aircraft station licensees operate domestically and are not subject to the radio carriage requirements of any statute or treaty. For purposes of our evaluations and conclusions in this FRFA, we estimate that there may be at least 712,000 potential licensees which are individuals or are small entities, as that term is defined by the SBA. We estimate that only 16,800 will be subject to FY 2001 regulatory fees.

47. Fixed Microwave Services. Microwave services include common carrier,¹³⁰ private-operational fixed,¹³¹ and broadcast auxiliary radio services.¹³² At present, there are approximately 22,015 common carrier fixed licensees and 61,670 private operational-fixed licensees and broadcast auxiliary radio licensees in the microwave services. The Commission has not yet defined a small business with respect to microwave services. For purposes of this FRFA, we will use the SBA's definition applicable to radiotelephone (wireless) companies—i.e., an entity with no more than 1,500 persons.¹³³ We estimate that all of the Fixed Microwave licensees (excluding broadcast auxiliary licensees) would qualify as small entities under the SBA definition for radiotelephone (wireless) companies.

¹³⁰ 47 CFR 101 et seq. (formerly, part 21 of the Commission's Rules).

¹³¹ Persons eligible under parts 80 and 90 of the Commission's rules can use Private Operational-Fixed Microwave services. See 47 CFR parts 80 and 90. Stations in this service are called operational-fixed to distinguish them from common carrier and public fixed stations. Only the licensee may use the operational-fixed station, and only for communications related to the licensee's commercial, industrial, or safety operations.

¹³² Auxiliary Microwave Service is governed by part 74 of Title 47 of the Commission's Rules. See 47 CFR 74 et seq. Available to licensees of broadcast stations and to broadcast and cable network entities, broadcast auxiliary microwave stations are used for relaying broadcast television signals from the studio to the transmitter, or between two points such as a main studio and an auxiliary studio. The service also includes mobile TV pickups, which relay signals from a remote location back to the studio.

¹³³ 13 CFR 121.201, NAICS codes 513321, 513322, 51333.

48. Public Safety Radio Services. Public Safety radio services include police, fire, local government, forestry conservation, highway maintenance, and emergency medical services.¹³⁴ There are a total of approximately 127,540 licensees within these services. Governmental entities ¹³⁵ as well as private businesses comprise the licensees for these services. As indicated supra in paragraph four of this FRFA, all governmental entities with populations of less than 50,000 fall within the definition of a small entity.¹³⁶ All licensees in this category are exempt from the payment of regulatory fees.

¹³⁴ With the exception of the special emergency service, these services are governed by Subpart B of part 90 of the Commission's Rules, 47 CFR 90.15 through 90.27. The police service includes 26,608 licensees that serve state, county, and municipal enforcement through telephony (voice), telegraphy (code) and teletype and facsimile (printed material). The fire radio service includes 22,677 licensees comprised of private volunteer or professional fire companies as well as units under governmental control. The local government service that is presently comprised of 40,512 licensees that are state, county, or municipal entities that use the radio for official purposes not covered by other public safety services. There are 7,325 licensees within the forestry service which is comprised of licensees from state departments of conservation and private forest organizations who set up communications networks among fire lookout towers and ground crews. The 9,480 state and local governments are licensed to highway maintenance service provide emergency and routine communications to aid other public safety services to keep main roads safe for vehicular traffic. The 1,460 licensees in the Emergency Medical Radio Service (EMRS) use the 39 channels allocated to this service for emergency medical service communications related to the delivery of emergency medical treatment. 47 CFR 90.15 through 90.27. The 19,478 licensees in the special emergency service include medical services, rescue organizations, veterinarians, handicapped persons, disaster relief organizations, school buses, beach patrols, establishments in isolated areas, communications standby facilities, and emergency repair of public communications facilities. 47 CFR 90.33 through 90.55.

¹³⁵ 47 CFR 1.1162.

¹³⁶ 5 U.S.C. 601(5).

49. Personal Radio Services. Personal radio services provide short-range, low power radio for personal communications, radio signaling, and business communications not provided for in other services. The services include the citizen's band (CB) radio service, general mobile radio service (GMRS), radio control radio service, and family radio service (FRS).¹³⁷ Since the CB, GMRS, and FRS licensees are individuals, no small business definition applies for these services. We are unable at this time to estimate the number of other licensees that would qualify as small under the SBA's definition; however, only GMRS licensees are subject to regulatory fees.

¹³⁷ Licensees in the Citizens Bank (CB) Radio Services, General Mobile Radio Service (GMRS), Radio Control (R/C) Radio Service and Familly Radio Service (FRS) are governed by Subpart D, Subpart A, Subpart C, and Subpart B, respectively, of part 95 of the Commission Rules. 47 CFR 95.401 through 95.428; 95.1 through 95.181; 95.201 through 95.225; 47 CFR 95.191 through 95.194

50. Offshore Radiotelephone Service. This service operates on several UHF TV broadcast channels that are not used for TV broadcasting in the coastal areas of states bordering the Gulf of Mexico.¹³⁸ There are presently approximately 55 licensees in this service. We are unable to estimate at this time the number of licensees that would qualify as small under the SBA's definition for radiotelephone (wireless) communications.

¹³⁸ This service is governed by subpart 1 of part 22 of the Commission's Rules. See 47 CFR 22.1001 through 22.1037.

51. Wireless Communications Services. This service can be used for fixed, mobile, radiolocation and digital audio broadcasting satellite uses. The Commission defined “small business” for the wireless communications services (WCS) auction as an entity with average gross revenues of $40 million for each of the three preceding years, and a “very small business” as an entity with average gross revenues of $15 million for each of the three preceding years. The SBA has approved these definitions.¹³⁹ The FCC auctioned geographic area licenses in the WCS service. In the auction, there were seven winning bidders that qualified as very small business entities, and one that qualified as a small business entity. We conclude that the number of geographic area WCS licensees affected includes these eight entities.

¹³⁹ See Letter to Amy Zoslov, Chief, Auctions and Industry Analysis Division from A. Alvarez, Administrator, SBA (December 2. 1998).

52. 39 GHz Service. The Commission defined “small entity” for 39 GHz licenses as an entity that has average gross revenues of less than $40 million in the three previous calendar years.¹⁴⁰ An additional classification for “very small business” was added and is defined as an entity that, together with their affiliates, has average gross revenues of not more than $15 million for the preceding three calendar years.¹⁴¹ These regulations defining “small entity” in the context of 39 GHz auctions have been approved by the SBA. The auction of the 2,173 39 GHz licenses began on April 12, 2000 and closed on May 8, 2000. The 18 bidders who claimed small business status won 849 licenses.

¹⁴⁰ See In the Matter of Amendment of the Commission's Rules Regarding the 37.0-38.6 GHz and 38.6-40.0 GHz Band, Report and Order, 12 FCC Rcd 18600 (1997).

¹⁴¹ Id.

53. Local Multipoint Distribution Service. The auction of the 1,030 Local Multipoint Distribution Service (LMDS) licenses began on February 18, 1998 and closed on March 25, 1998. The Commission defined “small entity” for LMDS licenses as an entity that has average gross revenues of less than $40 million in the three previous calendar years.¹⁴² An additional classification for “very small business” was added and is defined as an entity that, together with its affiliates, has average gross revenues of not more than $15 million for the preceding three calendar years.¹⁴³ These regulations defining “small entity” in the context of LMDS auctions have been approved by the SBA.¹⁴⁴ There were 93 winning bidders that qualified as small entities in the LMDS auctions. A total of 93 small and very small business bidders won approximately 277 A Block licenses and 387 B Block licenses. On March 27, 1999, the Commission re-auctioned 161 licenses; there were 40 winning bidders. Based on this information, we conclude that the number of small LMDS licenses will include the 93 winning bidders in the first auction and the 40 winning bidders in the re-auction, for a total of 133 small entity LMDS providers as defined by the SBA and the Commission's auction rules.

¹⁴² See Local Multipoint Distribution Service, Second Report and Order, 62 FR 23148, April 29, 1997.

¹⁴³ Id.

¹⁴⁴ See Letter to Daniel Phythyon, Chief, Wireless Telecommunications Bureau (FCC) from A. Alvarez, Administrator, SBA (January 6, 1998).

54. 218-219 MHz Service. The first auction of 218-219 MHz spectrum resulted in 170 entities winning licenses for 595 Metropolitan Statistical Area (MSA) licenses. Of the 594 licenses, 557 were won by entities qualifying as a small business. For that auction, we defined a small business as an entity that, together with its affiliates, has no more than a $6 million net worth and, after federal income taxes (excluding any carry over losses), has no more than $2 million in annual profits each year for the previous two years.¹⁴⁵ In the 218-219 MHz Report and Order and Memorandum Opinion and Order, we defined a small business as an entity that, together with its affiliates and persons or entities that hold interests in such an entity and their affiliates, has average annual gross revenues not to exceed $15 million for the preceding three years.¹⁴⁶ A very small business is defined as an entity that, together with its affiliates and persons or entities that hold interests in such an entity and its affiliates, has average annual gross revenues not to exceed $3 million for the preceding three years.¹⁴⁷ We cannot estimate, however, the number of licenses that will be won by entities qualifying as small or very small businesses under our rules in future auctions of 218-219 MHz spectrum. Given the success of small businesses in the previous auction, and the above discussion regarding the prevalence of small businesses in the subscription television services and message communications industries, we assume for purposes of this FRFA that in future auctions, all of the licenses may be awarded to small businesses, which would be affected by these revised rules.

¹⁴⁵ Implementation of Section 309(j) of the Communications Act—Competitive Bidding, PP WT Docket No. 93-253, Fourth Report and Order, 59 FR 24947 (May 13, 1994).

¹⁴⁶ In the Matter of Amendment of Part 95 of the Commission's Rules to Provide Regulatory Flexibility in the 218-219 MHz Service, WT Docket No. 98-169, Report and Order and Memorandum Opinion and Order, 64 FR 59656 (November 3, 1999).

¹⁴⁷ Amendment of Part 95 of the Commission's Rules to Provide Regulatory Flexibility in the 218-219 MHz Service, Report and Order and Memorandum Opinion and Order, 64 FR 59656 (1999).

IV. Description of Projected Reporting, Recordkeeping and Other Compliance Requirements

55. With certain exceptions, the Commission's Schedule of Regulatory Fees applies to all Commission licensees and regulatees. Most licensees will be required to count the number of licenses or call signs authorized, complete and submit an FCC Form 159 (“FCC Remittance Advice”), and pay a regulatory fee based on the number of licenses or call signs.¹⁴⁸ Interstate telephone service providers must compute their annual regulatory fee based on their interstate and international end-user revenue using information they already supply to the Commission in compliance with the Form 499-A, Telecommunications Reporting Worksheet, and they must complete and submit the FCC Form 159. Compliance with the fee schedule will require some licensees to tabulate the number of units (e.g., cellular telephones, pagers, cable TV subscribers) they have in service, and complete and submit an FCC Form 159. Licensees ordinarily will keep a list of the number of units they have in service as part of their normal business practices. No additional outside professional skills are required to complete the FCC Form 159, and it can be completed by the employees responsible for an entity's business records.

¹⁴⁸ The following categories are exempt from the Commission's Schedule of Regulatory Fees: Amateur radio licensees (except applicants for vanity call signs) and operators in other non-licensed services (e.g., Personal Radio, part 15, ship and aircraft). Governments and non-profit (exempt under section 501(c) of the Internal Revenue Code) entities are exempt from payment of regulatory fees and need not submit payment. Non-commercial educational broadcast licensees are exempt from regulatory fees as are licensees of auxiliary broadcast services such as low power auxiliary stations, television auxiliary service stations, remote pickup stations and aural broadcast auxiliary stations where such licenses are used in conjunction with commonly owned non-commercial educational stations. Emergency Alert System licenses for auxiliary service facilities are also exempt as are instructional television fixed service licensees. Regulatory fees are automatically waived for the licensee of any translator station that: (1) is not licensed to, in whole or in part, and does not have common ownership with, the licensee of a commercial broadcast station; (2) does not derive income from advertising; and (3) is dependent on subscriptions or contributions from members of the community served for support. Receive only earth station permittees are exempt from payment of regulatory fees. A regulatee will be relieved of its fee payment requirement if its total fee due, including all categories of fees for which payment is due by the entity, amounts to less than $10.

56. Each licensee must submit the FCC Form 159 to the Commission's lockbox bank after computing the number of units subject to the fee. Licensees may also file electronically to minimize the burden of submitting multiple copies of the FCC Form 159. Applicants who pay small fees in advance and provide fee information as part of their application must use FCC Form 159.

57. Licensees and regulatees are advised that failure to submit the required regulatory fee in a timely manner will subject the licensee or regulatee to a late payment fee of 25 percent in addition to the required fee.¹⁴⁹ Until payment is received, no new or pending applications will be processed, and existing authorizations may be subject to rescission.¹⁵⁰ Further, in accordance with the Debt Collection Improvement Act of 1996, federal agencies may bar a person or entity from obtaining a federal loan or loan insurance guarantee if that person or entity fails to pay a delinquent debt owed to any federal agency.¹⁵¹ Nonpayment of regulatory fees is a debt owed the United States pursuant to 31 U.S.C. 3711 et seq., and the Debt Collection Improvement Act of 1996, Public Law 194-134. Appropriate enforcement measures, e.g., interest as well as administrative and judicial remedies, may be exercised by the Commission. Debts owed to the Commission may result in a person or entity being denied a federal loan or loan guarantee pending before another federal agency until such obligations are paid.¹⁵²

¹⁴⁹ 47 U.S.C. 1.1164(a).

¹⁵⁰ 47 U.S.C. 1.1164(c).

¹⁵¹ Public Law 104-134, 110 Stat. 1321 (1996).

¹⁵² 31 U.S.C. 7701(c)(2)(B).

58. The Commission's rules currently provide for relief in exceptional circumstances. Persons or entities that believe they have been placed in the wrong regulatory fee category or are experiencing extraordinary and compelling financial hardship, upon a showing that such circumstances override the public interest in reimbursing the Commission for its regulatory costs, may request a waiver, reduction or deferment of payment of the regulatory fee.¹⁵³ However, timely submission of the required regulatory fee must accompany requests for waivers or reductions. This will avoid any late payment penalty if the request is denied. The fee will be refunded if the request is granted. In exceptional and compelling instances (where payment of the regulatory fee along with the waiver or reduction request could result in reduction of service to a community or other financial hardship to the licensee), the Commission will accept a petition to defer payment along with a waiver or reduction request.

¹⁵³ 47 U.S.C. 1.1166.

V. Steps Taken to Minimize Significant Economic Impact on Small Entities, and Significant Alternatives Considered

59. The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities. As described in Section IV of this FRFA, supra, we have created procedures in which all fee-filing licensees and regulatees use a single form, FCC Form 159, and have described in plain language the general filing requirements. We have also created Attachment F, infra, which gives “Detailed Guidance on Who Must Pay Regulatory Fees.” Because the collection of fees is statutory, our efforts at proposing alternatives are constrained and, throughout these annual fee proceedings, have been largely directed toward simplifying the instructions and necessary procedures for all filers. We have sought comment on other alternatives that might simplify our fee procedures or otherwise benefit small entities, while remaining consistent with our statutory responsibilities in this proceeding.

60. The Omnibus Consolidated and Emergency Supplemental Appropriations Act for FY 2000, Public Law 106-553 requires the Commission to revise its Schedule of Regulatory Fees in order to recover the amount of regulatory fees that Congress, pursuant to Section 9(a) of the Communications Act, as amended, has required the Commission to collect for Fiscal Year (FY) 2001.¹⁵⁴ As noted, we have also previously sought comment on the proposed methodology for implementing these statutory requirements and any other potential impact of these proposals on small entities.

¹⁵⁴ 47 U.S.C.159(a).

61. With the use of actual cost accounting data for computation of regulatory fees, we found that some fees which were very small in previous years would have increased dramatically and would have a disproportionate impact on smaller entities. The methodology we are adopting in this Report and Order minimizes this impact by limiting the amount of increase and shifting costs to other services which, for the most part, are larger entities.

62. Several categories of licensees and regulatees are exempt from payment of regulatory fees. See, e.g., footnote 148, supra, and Attachment F of the Report and Order, infra.

Report to Small Business Administration: The Commission will send a copy of this Report and Order, including a copy of the FRFA to the Chief Counsel for Advocacy of the Small Business Administration. The Report and Order and FRFA (or summaries thereof) will also be published in the Federal Register.

Report to Congress: The Commission will send a copy of this Final Regulatory Flexibility Analysis, along with this Report and Order, in a report to Congress pursuant to the Congressional Review Act, 5 U.S.C. 801(a)(1)(A).

BILLING CODE 6712-01-P

BILLING CODE 6712-01-C

Attachment D.—FY 2001 Schedule of Regulatory Fees
Fee category | Annual regulatory fee (U.S. $'s)
PLMRS (per license) (Exclusive Use) (47 CFR part 90) | 5
Microwave (per license) (47 CFR part 101) | 5
218-219 MHz (Formerly Interactive Video Data Service) (per license) (47 CFR part 95) | 10
Marine (Ship) (per station) (47 CFR part 80) | 10
Marine (Coast) (per license) (47 CFR part 80) | 5
General Mobile Radio Service (per license) (47 CFR part 95) | 5
Rural Radio (47 CFR part 22) (previously listed under the Land Mobile category) | 5
PLMRS (Shared Use) (per license) (47 CFR part 90) | 5
Aviation (Aircraft) (per station) (47 CFR part 87) | 5
Aviation (Ground) (per license) (47 CFR part 87) | 10
Amateur Vanity Call Signs (per call sign) (47 CFR part 97) | 1.20
CMRS Mobile Services (per unit) (47 CFR parts 20, 22, 24, 27, 80 and 90) | .27
CMRS Messaging Services (per unit) (47 CFR parts 20, 22, 24 and 90) | .05
Multipoint Distribution Services (Includes MMDS & LMDS) (per call sign) (47 CFR parts 21 and 101) | 450
AM Radio Construction Permits | 280
FM Radio Construction Permits | 925
TV (47 CFR part 73) VHF Commercial
Markets 1-10 | 45,100
Markets 11-25 | 32,825
Markets 26-50 | 21,325
Markets 51-100 | 13,750
Remaining Markets | 3,275
Construction Permits | 3,075
TV (47 CFR part 73) UHF Commercial
Markets 1-10 | 15,150
Markets 11-25 | 12,300
Markets 26-50 | 7,075
Markets 51-100 | 4,075
Remaining Markets | 1,150
Construction Permits | 4,000
Satellite Television Stations (All Markets) | 740
Construction Permits—Satellite Television Stations | 480
Low Power TV, TV/FM Translators & Boosters (47 CFR part 74) | 305
Broadcast Auxiliary (47 CFR part 74) | 10
CARS (47 CFR part 78) | 55
Cable Television Systems (per subscriber) (47 CFR part 76) | .49
Interstate Telephone Service Providers (per revenue dollar) | .00132
Earth Stations (47 CFR part 25) | 180
Space Stations (per operational station in geostationary orbit) (47 CFR part 25) also includes Direct Broadcast Satellite Service (per operational station) (47 CFR part 100) | 98,125
Space Stations (per operational system in non-geostationary orbit) (47 CFR part 25) | 94,425
International Bearer Circuits (per active 64KB circuit) | 5
International Public Fixed (per call sign) (47 CFR part 23) | 1,275
International (HF) Broadcast (47 CFR part 73) | 680

FY 2001 Radio Station Regulatory Fees
Population served | AM Class A | AM Class B | AM Class C | AM Class D | FM Classes A, B1 & C3 | FM Classes B, C, C1 & C2
≦20,000 | 450 | 350 | 250 | 300 | 350 | 450
20,001-50,000 | 850 | 675 | 350 | 475 | 675 | 850
50,001-125,000 | 1,375 | 900 | 475 | 700 | 900 | 1,375
125,001-400,000 | 2,050 | 1,450 | 725 | 875 | 1,450 | 2,050
400,001-1,000,000 | 2,850 | 2,300 | 1,300 | 1,550 | 2,300 | 2,850
>1,000,000 | 4,550 | 3,750 | 1,900 | 2,400 | 3,750 | 4,550

Attachment E.—Comparison Between FY 2000 & FY 2001 Proposed and Final Regulatory Fees
Fee category | Annual regulatory fee FY 2000 | NPRM Proposed fee FY 2001 | Annual regulatory fee FY 2001
PLMRS (per license) (Exclusive (47 CFR part 90) | 13 | 5 | 5
Microwave (per license) (47 CFR part 101) | 13 | 5 | 5
218-219 MHz (Formerly Interactive Video Data Service) (per license) (47 CFR part 95) | 13 | 10 | 10
Marine (Ship) (per station) (47 CFR part 80) | 7 | 10 | 10
Marine (Coast) (per license) (47 CFR part 80) | 7 | 5 | 5
General Mobile Radio Service (per license) (47 CFR part 95) | 7 | 5 | 5
Rural Radio (47 CFR part 22) (previously listed under Land Mobile) | 7 | 5 | 5
PLMRS (Shared Use) (47 CFR part 90) | 7 | 5 | 5
Aviation (Aircraft) (per station) (47 CFR part 87) | 7 | 5 | 5
Aviation (Ground) (per license) (47 CFR part 87) | 7 | 10 | 10
Amateur Vanity Call Signs (per call sign) (47 CFR part 97) | 1.40 | 1.20 | 1.20
CMRS Mobile Services (per unit) (47 CFR parts 20, 22, 24, 27, 80 and 90) | .31 | .30 | .27
CMRS Messaging Services (per unit) (47 CFR parts 20, 22, 24 and 90) | .04 | .05 | .05
Multipoint Distribution Services (includes MMDS and LMDS) (per call sign) (47 CFR part 21 and 101) | 275 | 450 | 450
AM Construction Permits | 250 | 280 | 280
FM Construction Permits | 755 | 925 | 925
TV (47 CFR part 73) VHF Commercial
Markets 1-10 | 39,950 | 45,100 | 45,100
Markets 11-25 | 33,275 | 32,825 | 32,825
Markets 26-50 | 22,750 | 21,325 | 21,325
Markets 51-100 | 12,750 | 13,750 | 13,750
Remaining Markets | 3,300 | 3,275 | 3,275
Construction Permits | 2,700 | 3,075 | 3,075
TV (47 CFR part 73) UHF Commercial
Markets 1-10 | 15,075 | 15,150 | 15,150
Markets 11-25 | 11,425 | 12,300 | 12,300
Markets 26-50 | 7,075 | 7,075 | 7,075
Markets 51-100 | 4,225 | 4,075 | 4,075
Remaining Markets | 1,150 | 1,150 | 1,150
Construction Permits | 2,800 | 4,000 | 4,000
Satellite Television Stations (All Markets) | 1,250 | 740 | 740
Construction Permits—Satellite Television Stations | 445 | 480 | 480
Low Power TV, TV/FM Translators & Boosters (47 CFR part 74) | 280 | 305 | 305
Broadcast Auxiliary (47 CFR part 74) | 12 | 10 | 10
CARS (47 CFR part 78) | 53 | 55 | 55
Earth Stations (47 CFR part 25) | 175 | 180 | 180
Cable Television Systems (per subscriber) (47 CFR part 76) | .47 | .49 | .49
Interstate Telephone Service Providers (per revenue dollar) | .00117 | .00132 | .00132
Space Stations (per operational station in geostationary orbit) (47 CFR part 25) also includes Direct Broadcast Satellite Service (per operational station (47 CFR part 100) | 94,650 | 98,125 | 98,125
Space Stations (per operational system in non-geostationary orbit) (47 CFR part 25) | 175,250 | 94,425 | 94,425
International Bearer Circuits (per active 64KB circuit) | 7 | 5 | 5
International Public Fixed (per call sign) (47 CFR part 23) | 395 | 1,275 | 1,275
International (HF) Broadcast (47 CFR part 73) | 505 | 680 | 680

FY 2000 Radio Station Regulatory Fees
Population Served | AM Class A | AM Class B | AM Class C | AM Class D | FM Classes A, B1 & C3 | FM Classes B, C, C1 & C2
≦20,000 | 400 | 300 | 200 | 250 | 300 | 400
20,001-50,000 | 800 | 625 | 300 | 425 | 625 | 800
50,001-125,000 | 1,325 | 850 | 425 | 650 | 850 | 1,325
125,001-400,000 | 1,950 | 1,350 | 625 | 775 | 1,350 | 1,950
400,001-1,000,000 | 2,725 | 2,200 | 1,200 | 1,450 | 2,200 | 2,725
>1,000,000 | 4,375 | 3,575 | 1,725 | 2,225 | 3,575 | 4,375

FY 2001 Radio Station Regulatory Fees
Population Served | AM Class A | AM Class B | AM Class C | AM Class D | FM Classes A, B1 & C3 | FM Classes B, C, C1 & C2
≦20,000 | 450 | 350 | 250 | 300 | 350 | 450
20,001-50,000 | 850 | 675 | 350 | 475 | 675 | 850
50,001-125,000 | 1,375 | 900 | 475 | 700 | 900 | 1,375
125,001-400,000 | 2,050 | 1,450 | 725 | 875 | 1,450 | 2,050
400,001-1,000,000 | 2,850 | 2,300 | 1,300 | 1,550 | 2,300 | 2,850
>1,000,000 | 4,550 | 3,750 | 1,900 | 2,400 | 3,750 | 4,550

Attachment F.—Detailed Guidance on Who Must Pay Regulatory Fees

1. The guidelines below provide an explanation of regulatory fee categories established by the Schedule of Regulatory Fees in section 9(g) of the Communications Act,¹⁵⁶ as modified in the present Report and Order (released July 2, 2001). Where regulatory fee categories need interpretation or clarification, we have relied on the legislative history of section 9, our own experience in establishing and regulating the Schedule of Regulatory Fees for Fiscal Years (FY) 1994 through 2000, and the services subject to the fee schedule. The categories and amounts set out in the schedule have been modified to reflect changes in the number of payment units, additions and changes in the services subject to the fee requirement and the benefits derived from the Commission's regulatory activities, and to simplify the structure of the schedule. The schedule may be similarly modified or adjusted in future years to reflect changes in the Commission's budget and in the services regulated by the Commission.¹⁵⁷

¹⁵⁶ 47 U.S.C. 159(g).

¹⁵⁷ U.S.C. 159(b)(2), (3).

2. Exemptions. Governments and nonprofit entities are exempt from paying regulatory fees and should not submit payment. A nonprofit entity is required to have on file with the Commission an IRS Determination Letter documenting that it is exempt from taxes under section 501 of the Internal Revenue Code or the certification of a governmental authority attesting to its nonprofit status. In instances where the IRS Determination Letter or the letter of certification from a governmental authority attesting to its nonprofit status is not sufficiently current, the nonprofit entity may be asked to submit more current documentation. The governmental exemption applies even where the government-owned or community-owned facility is in competition with a commercial operation. Other specific exemptions are discussed below in the descriptions of other particular service categories.

1. Private Wireless Radio Services

3. Two levels of statutory fees were established for the Private Wireless Radio Services—exclusive use services and shared use services. Thus, licensees who generally receive a higher quality communication channel due to exclusive or lightly shared frequency assignments will pay a higher fee than those who share marginal quality assignments. This dichotomy is consistent with the directive of section 9, that the regulatory fees reflect the benefits provided to the licensees.¹⁵⁸ In addition, because of the generally small amount of the fees assessed against Private Wireless Radio Service licensees, applicants for new licenses and reinstatements and for renewal of existing licenses are required to pay a regulatory fee covering the entire license term, with only a percentage of all licensees paying a regulatory fee in any one year. Applications for modification or assignment of existing authorizations do not require the payment of regulatory fees. The expiration date of those authorizations will reflect only the unexpired term of the underlying license rather than a new license term.

¹⁵⁸ 47 U.S.C. 159(b)(1)(A).

a. Exclusive Use Services

4. Private Land Mobile Radio Services (PLMRS) (Exclusive Use): Regulatees in this category include those authorized under part 90 of the Commission's Rules to provide limited access Wireless Radio service that allows high quality voice or digital communications between vehicles or to fixed stations to further the business activities of the licensee. These services, using the 220-222 MHz band and frequencies at 470 MHz and above, may be offered on a private carrier basis in the Specialized Mobile Radio Services (SMRS).¹⁵⁹ For FY 2001, PLMRS licensees will pay a $5 annual regulatory fee per license, payable for an entire ten-year license term at the time of application for a new, renewal, or reinstatement license.¹⁶⁰ The total regulatory fee due is $50 for the ten-year term.

¹⁵⁹ This category only applies to licensees of shared-use private 220-222 MHz and 470 MHz and above in the Specialized Mobile Radio (SMR) service who have elected not to change to the Commercial Mobile Radio Service (CMRS). Those who have elected to change to the CMRS are referred to paragraph 14 of this Attachment.

¹⁶⁰ Although this fee category includes licenses with ten-year terms, the estimated volume of ten-year license applications in FY 2001 is less than one-tenth of one percent and, therefore, is statistically insignificant.

5. Microwave Services: These services include private and commercial microwave systems and private and commercial carrier systems authorized under part 101 of the Commission's Rules to provide telecommunications services between fixed points on a high quality channel of communications. Microwave systems are often used to relay data and to control railroad, pipeline, and utility equipment. Commercial systems typically are used for video or data transmission or distribution. For FY 2001, Microwave licensees will pay a $5 annual regulatory fee per license, payable for an entire ten-year license term at the time of application for a new, renewal, or reinstatement license. The total regulatory fee due is $50 for the ten-year license term.

6. 218-219 MHz (Formerly Interactive Video Data Service (IVDS)): The 218-219 MHz service is a two-way, point-to-multi-point radio service allocated high quality channels of communications and authorized under part 95 of the Commission's Rules. The 218-219 MHz service provides information, products, and services, and also the capability to obtain responses from subscribers in a specific service area. The 218-219 MHz service is offered on a private carrier basis. The Commission did not anticipate receiving any applications in the 218-219 MHz service during FY 2000. For FY 2001, we anticipate receiving 25 applications and propose that the annual regulatory fee for 218-219 MHz licensees be set at $10 per application. The total regulatory fee due would be $50 for the five-year license term.

b. Shared Use Services

7. Marine (Ship) Service: This service is a shipboard radio service authorized under part 80 of the Commission's Rules to provide telecommunications between watercraft or between watercraft and shore-based stations. Radio installations are required by domestic and international law for large passenger or cargo vessels. Radio equipment may be voluntarily installed on smaller vessels, such as recreational boats. The Telecommunications Act of 1996 gave the Commission the authority to license certain ship stations by rule rather than by individual license. The Commission exercises that authority. Private boat operators sailing entirely within domestic U.S. waters and who are not otherwise required by treaty or agreement to carry a radio, are no longer required to hold a marine license, and they will not be required to pay a regulatory fee. For FY 2001, parties required to be licensed and those choosing to be licensed for Marine (Ship) Stations will pay a $10 annual regulatory fee per station, payable for an entire ten-year license term at the time of application for a new, renewal, or reinstatement license. The total regulatory fee due is $100 for the ten-year license term.

8. Marine (Coast) Service: This service includes land-based stations in the maritime services, authorized under part 80 of the Commission's Rules, to provide communications services to ships and other watercraft in coastal and inland waterways. For FY 2001, licensees of Marine (Coast) Stations will pay a $5 annual regulatory fee per call sign, payable for the entire ten-year license term at the time of application for a new, renewal, or reinstatement license. The total regulatory fee due is $50 per call sign for the ten-year license term.

9. Private Land Mobile Radio Services (PLMRS)(Shared Use): These services include Land Mobile Radio Services operating under parts 90 and 95 of the Commission's Rules. Services in this category provide one-or two-way communications between vehicles, persons or fixed stations on a shared basis and include radiolocation services, industrial radio services, and land transportation radio services. For FY 2001, licensees of services in this category will pay a $5 annual regulatory fee per call sign, payable for an entire ten-year license term at the time of application for a new, renewal, or reinstatement license. The total regulatory fee due is $50 for the ten-year license term.

10. Aviation (Aircraft) Service: These services include stations authorized to provide communications between aircraft and between aircraft and ground stations and include frequencies used to communicate with air traffic control facilities pursuant to part 87 of the Commission's Rules. The Telecommunications Act of 1996 gave the Commission the authority to license certain aircraft radio stations by rule rather than by individual license. The commission exercises that authority. Private aircraft operators flying entirely within domestic U.S. airspace and who are not otherwise required by treaty or agreement to carry a radio are no longer required to hold an aircraft license, and they will not be required to pay a regulatory fee. For FY 2001, parties required to be licensed and those choosing to be licensed for Aviation (Aircraft) Stations will pay a $5 annual regulatory fee per station, payable for the entire ten-year license term at the time of application for a new, renewal, or reinstatement license. The total regulatory fee due is $50 per station for the ten-year license term.

11. Aviation (Ground) Service: This service includes stations authorized to provide ground-based communications to aircraft for weather or landing information, or for logistical support pursuant to part 87 of the Commission's Rules. Certain ground-based stations which only serve itinerant traffic, i.e., possess no actual units on which to assess a fee, are exempt from payment of regulatory fees. For FY 2001, licensees of Aviation (Ground) Stations will pay a $10 annual regulatory fee per license, payable for the entire five-year license term at the time of application for a new, renewal, or reinstatement license. The total regulatory fee is $50 per call sign for the five-year license term.

12. General Mobile Radio Service (GMRS): These services include Land Mobile Radio licensees providing personal and limited business communications between vehicles or to fixed stations for short-range, two-way communications pursuant to part 95 of the Commission's Rules. For FY 2001, GMRS licensees will pay a $5 annual regulatory fee per license, payable for an entire five-year license term at the time of application for a new, renewal or reinstatement license. The total regulatory fee due is $25 per license for the five-year license term.

13. Rural Radiotelephone Service: Rural Radiotelephone is a fixed radio service where a wireless technology is used to provide telephone service to subscribers in remote areas. This service operates in the paired 152/158 and 454/459 MHz band, pursuant to Parts 1 and 22 of the Commission's rules. For FY 2001, Rural Radiotelephone licensees will pay a $5 annual regulatory fee per license, payable for an entire ten-year license term at the time of application for a new, renewal or reinstatement license. The total regulatory fee due is $50 per license for the ten-year license term.

c. Amateur Radio Vanity Call Signs

14. Amateur Vanity Call Signs: This category covers voluntary requests for specific call signs in the Amateur Radio Service authorized under part 97 of the Commission's Rules. Applicants for Amateur Vanity Call-Signs will continue to pay a $1.40 annual regulatory fee per call sign, as prescribed in the FY 2000 fee schedule, payable for an entire ten-year license term at the time of application for a vanity call sign until the FY 2001 fee schedule becomes effective. The total regulatory fee due would be $14 per license for the ten-year license term.¹⁶¹ For FY 2001, Amateur Vanity Call Sign applicants will pay a $1.20 annual regulatory fee per call sign, payable for an entire ten-year term at the time of application for a new, renewal or reinstatement license; this total fee due is $12 per call sign for a ten-year license term.

¹⁶¹ Section 9(h) exempts “amateur radio operator licenses under part 97 of the Commission's rules (47 CFR part 97)” from the requirement. However, section 9(g)'s fee schedule explicitly includes “Amateur vanity call signs” as a category subject to the payment of a regulatory fee.

d. Commercial Wireless Radio Services

15. Commercial Mobile Radio Services (CMRS) Mobile Services: The Commercial Mobile Radio Service (CMRS) is an “umbrella” descriptive term attributed to various existing broadband services authorized to provide interconnected mobile radio services for profit to the public, or to such classes of eligible users as to be effectively available to a substantial portion of the public. CMRS Mobile Services include certain licensees which formerly were licensed as part of the Private Radio Services (e.g., Specialized Mobile Radio Services) and others formerly licensed as part of the Common Carrier Radio Services (e.g., Public Mobile Services and Cellular Radio Service). While specific rules pertaining to each covered service remain in separate parts 22, 24, 27, 80 and 90, general rules for CMRS are contained in part 20. CMRS Mobile Services will include: Specialized Mobile Radio Services (part 90);¹⁶² Broadband Personal Communications Services (part 24), Public Coast Stations (part 80); Public Mobile Radio (Cellular, 800 MHz Air-Ground Radiotelephone, and Offshore Radio Services) (part 22); and Wireless Communications Service (part 27). Each licensee in this group will pay an annual regulatory fee for each mobile or cellular unit (mobile or telephone number), assigned to its customers, including resellers of its services. For FY 2001, the regulatory fee is $.27 per unit.

¹⁶² This category does not include licenses of private shared-use 220 MHz and 470 MHz and above in the Specialized Mobile Radio (SMR) service who have elected to remain non-commercial. Those who have elected not to change to the Commercial Mobile Radio Service (CMRS) are referred to paragraph 4 of this Attachment.

16. Commercial Mobile Radio Services (CMRS) Messaging Services: The Commercial Mobile Radio Service (CMRS) is an “umbrella” descriptive term attributed to various existing narrowband services authorized to provide interconnected mobile radio services for profit to the public, or to such classes of eligible users as to be effectively available to a substantial portion of the public. CMRS Messaging Services include certain licensees which formerly were licensed as part of the Private Radio Services (e.g., Private Paging and Radiotelephone Service), licensees formerly licensed as part of the Common Carrier Radio Services (e.g., Public Mobile One-Way Paging), licensees of Narrowband Personal Communications Service (PCS) (e.g., one-way and two-way paging), and 220-222 MHz Band and Interconnected Business Radio Service. This category also includes small SMR systems authorized for use of less than 10 MHz of bandwidth. While specific rules pertaining to each covered service remain in separate parts 22, 24 and 90, general rules for CMRS are contained in part 20. Each licensee in the CMRS Messaging Services will pay an annual regulatory fee for each unit (pager, telephone number, or mobile) assigned to its customers, including resellers of its services. For FY 2001, the regulatory fee is $.05 per unit.

17. Finally, we are reiterating our definition of CMRS payment units to say that fees are assessable on each PCS or cellular telephone and each one-way or two-way pager capable of receiving or transmitting information, whether or not the unit is “active” on the “as-of” date for payment of these fees. The unit becomes “feeable” if the unit end user or assignee has possession of the unit and the unit is capable of transmitting or receiving voice or non-voice messages or data, and the unit is either owned or operated by the licensee of the CMRS system or a reseller, or the end user of a unit has a contractual agreement for the provision of a CMRS service from a CMRS system licensee or a CMRS service reseller. The responsible payer of the regulatory fee is the CMRS licensee. For example, John Doe purchases a pager and obtains a paging services contract from Paging Licensee X. Paging Licensee X is responsible for paying the applicable regulatory fee for this unit. Likewise, Cellular Licensee Y donates cellular phones to a high school and the high school either pays for or obtains free cellular service from Cellular Licensee Y. In this situation, Cellular Licensee Y is responsible for paying the applicable regulatory fees for these units.

2. Mass Media Services

18. The regulatory fees for the Mass Media fee category apply to broadcast licensees and permittees. Noncommercial Educational Broadcasters are exempt from regulatory fees.

a. Commercial Radio

19. These categories include licensed Commercial AM (Classes A, B, C, and D) and FM (Classes A, B, B1, C, C1, C2, and C3) Radio Stations operating under part 73 of the Commission's Rules.¹⁶³ We have combined class of station and city grade contour population data to formulate a schedule of radio fees which differentiate between stations based on class of station and population served. In general, higher class stations and stations in metropolitan areas will pay higher fees than lower class stations and stations located in rural areas. The specific fee that a station must pay is determined by where it ranks after weighting its fee requirement (determined by class of station) with its population. The regulatory fee classifications for Radio Stations for FY 2001 are as follows:

¹⁶³ The Commission acknowledges that certain stations operating in Puerto Rico and Guam have been assigned a higher level station class than would be expected if the station were located on the mainland. Although this results in a higher regulatory fee, we believe that the increased interference protection associated with the higher station class is necessary and justifies the fee.

FY 2001 Radio Station Regulatory Fees
Population served | AM Class | AM Class B | AM Class C | AM Class D | FM Classes A, B1 & C3 | FM Classes B, C, C1 & C2
≦20,000 | 450 | 350 | 250 | 300 | 350 | 450
20,001-50,000 | 850 | 675 | 350 | 475 | 675 | 850
50,001-125,000 | 1,375 | 900 | 475 | 700 | 900 | 1,375
125,001-400,000 | 2,050 | 1,450 | 725 | 875 | 1,450 | 2,050
400,001-1,000,000 | 2,850 | 2,300 | 1,300 | 1,550 | 2,300 | 2,850
>1,000,000 | 4,550 | 3,750 | 1,900 | 2,400 | 3,750 | 4,550

20. Licensees may determine the appropriate fee payment by referring to the FCC's Internet world wide web site (http://www.fcc.gov) or by calling the FCC's National Call Center (1-888-225-5322). The same information may be included in the Public Notices mailed to each licensee for which we have a current address on file

(Note: Non-receipt of a Public Notice does not relieve a licensee of its obligation to submit its regulatory fee payment.)

b. Construction Permits—Commercial AM Radio

21. This category includes holders of permits to construct new Commercial AM Stations. For FY 2001, permittees will pay a fee of $280 for each permit held. Upon issuance of an operating license, this fee would no longer be applicable and licensees would be required to pay the applicable fee for the designated group within which the station appears.

c. Construction Permits—Commercial FM Radio

22. This category includes holders of permits to construct new Commercial FM Stations. For FY 2001, permittees will pay a fee of $925 for each permit held. Upon issuance of an operating license, this fee would no longer be applicable. Instead, licensees would pay a regulatory fee based upon the designated group within which the station appears.

d. Commercial Television Stations

23. This category includes licensed Commercial VHF and UHF Television Stations covered under part 73 of the Commission's Rules, except commonly owned Television Satellite Stations, addressed separately below. Markets are Nielsen Designated Market Areas (DMA) as listed in the Television & Cable Factbook, Stations Volume No. 69, 2001 Edition, Warren Publishing, Inc. The fees for each category of station are as follows:

VHF Markets 1-10 | $45,100
VHF Markets 11-25 | 32,825
VHF Markets 26-50 | 21,325
VHF Markets 51-100 | 13,750
VHF Remaining Markets | 3,275
UHF Markets 1-10 | 15,150
UHF Markets 11-25 | 12,300
UHF Markets 26-50 | 7,075
UHF Markets 51-100 | 4,075
UHF Remaining Markets | 1,150

e. Commercial Television Satellite Stations

24. Commonly owned Television Satellite Stations in any market (authorized pursuant to Note 5 of § 73.3555 of the Commission's Rules) that retransmit programming of the primary station are assessed a fee of $740 annually. Those stations designated as Television Satellite Stations in the 2001 Edition of the Television and Cable Factbook are subject to the fee applicable to Television Satellite Stations. All other television licensees are subject to the regulatory fee payment required for their class of station and market.

f. Construction Permits—Commercial VHF Television Stations

25. This category includes holders of permits to construct new Commercial VHF Television Stations. For FY 2001, VHF permittees will pay an annual regulatory fee of $3,075. This fee would no longer be applicable when an operating license is issued. Instead, licensees would pay a fee based upon the designated market of the station.

g. Construction Permits—Commercial UHF Television Stations

26. This category includes holders of permits to construct new UHF Television Stations. For FY 2001, UHF Television permittees will pay an annual regulatory fee of $4,000. This fee would no longer be applicable when an operating license is issued. Instead, licensees would pay a fee based upon the designated market of the station.

h. Construction Permits—Satellite Television Stations

27. The fee for UHF and VHF Television Satellite Station construction permits for FY 2001 is $480. An individual regulatory fee payment is to be made for each Television Satellite Station construction permit held.

i. Low Power Television, FM Translator and Booster Stations, TV Translator and Booster Stations

28. This category includes Low Power UHF/VHF Television stations operating under part 74 of the Commission's Rules with a transmitter power output limited to 1 kW for a UHF facility and, generally, 0.01 kW for a VHF facility. Low Power Television (LPTV) stations may retransmit the programs and signals of a TV Broadcast Station, originate programming, and/or operate as a subscription service. This category also includes translators and boosters operating under part 74 which rebroadcast the signals of full service stations on a frequency different from the parent station (translators) or on the same frequency (boosters). The stations in this category are secondary to full service stations in terms of frequency priority. We have also received requests for waivers of the regulatory fees from operators of community based Translators. These Translators are generally not affiliated with commercial broadcasters, are nonprofit, nonprofitable, or only marginally profitable, serve small rural communities, and are supported financially by the residents of the communities served. We are aware of the difficulties these Translators have in paying even minimal regulatory fees, and we have addressed those concerns in the ruling on reconsideration of the FY 1994 Report and Order. Community based Translators that meet certain requirements will have their fees waived.¹⁶⁴ For FY 2001, licensees in low power television, FM translator and booster, and TV translator and booster category will pay a regulatory fee of $305 for each license held.

¹⁶⁴ See 10 FCC Rcd 12759, 12762 (1995).

j. Broadcast Auxiliary Stations

29. This category includes licensees of remote pickup stations (either base or mobile) and associated accessory equipment authorized pursuant to a single license, Aural Broadcast Auxiliary Stations (Studio Transmitter Link and Inter-City Relay) and Television Broadcast Auxiliary Stations (TV Pickup, TV Studio Transmitter Link, TV Relay) authorized under part 74 of the Commission's Rules. Auxiliary Stations are generally associated with a particular television or radio broadcast station or cable television system. This category does not include translators and boosters (see paragraph 28 supra). For FY 2001, licensees of Commercial Auxiliary Stations will pay an $10 annual regulatory fee on a per call sign basis.

k. Multipoint Distribution Service

30. This category includes Multipoint Distribution Service (MDS), Local Multipoint Distribution (LMDS), and Multichannel Multipoint Distribution Service (MMDS), authorized under parts 21 and 101 of the Commission's Rules to use microwave frequencies for video and data distribution within the United States. For FY 2001, MDS, LMDS, and MMDS stations will pay an annual regulatory fee of $450 per call sign.

3. Cable Services

a. Cable Television Systems

31. This category includes operators of Cable Television Systems, providing or distributing programming or other services to subscribers under part 76 of the Commission's Rules. For FY 2001, Cable Systems will pay a regulatory fee of $.49 per subscriber.¹⁶⁵ Payments for Cable Systems are to be made on a per subscriber basis as of December 31, 2000. Cable Systems should determine their subscriber numbers by calculating the number of single family dwellings, the number of individual households in multiple dwelling units, e.g., apartments, condominiums, mobile home parks, etc., paying at the basic subscriber rate, the number of bulk rate customers and the number of courtesy or fee customers. In order to determine the number of bulk rate subscribers, a system should divide its bulk rate charge by the annual subscription rate for individual households. See FY 1994 Report and Order, Appendix B at paragraph 31.

¹⁶⁵ Cable systems are to pay their regulatory fees on a per subscriber basis rather than per 1,000 subscribers as set forth in the statutory fee schedule. See FY 1994 Report and Order at paragraph 100.

b. Cable Television Relay Service

32. This category includes Cable Television Relay Service (CARS) stations used to transmit television and related audio signals, signals of AM and FM Broadcast Stations, and cablecasting from the point of reception to a terminal point from where the signals are distributed to the public by a Cable Television System. For FY 2001, licensees will pay an annual regulatory fee of $55 per CARS license.

4. Common Carrier Services

a. Commercial Microwave (Domestic Public Fixed Radio Service)

33. This category includes licensees in the Point-to-Point Microwave Radio Service, Local Television Transmission Radio Service, and Digital Electronic Message Service, authorized under part 101 of the Commission's Rules to use microwave frequencies for video and data distribution within the United States. These services are now included in the Microwave category (see paragraph 5 supra).

b. Interstate Telephone Service Providers

34. This category includes all providers of local and telephone services to end users. Covered services include the interstate and international portion of wireline local exchange service, local and long distance private line services for both voice and data, dedicated and network packet and packet-like services, long distance message telephone services, and other local and toll services. Providers of such services are referred to herein as “interstate telephone service providers”.

Interstate service providers include CAPs/CLECs, incumbent local exchange carriers (local telephone operating companies), interexchange carriers (long distance telephone companies), local resellers, OSPs (operator service providers that enable customers to make away from home calls and to place calls with alternative billing arrangements), payphone service providers, prepaid service providers, private service providers, satellite carriers that provide fixed local or message toll services, shared tenant service providers, toll resellers, and other local and other service providers.

To avoid imposing a double payment burden on resellers, we base the regulatory fee on end-user revenues. Interstate telephone service providers, including resellers, must submit fee payments based upon their proportionate share of interstate and international end-user revenues for local and toll services. We use the terms end-user revenues, local service and toll service, based on the methodology used for calculating contributions to the Universal Service support mechanisms.¹⁶⁶ Interstate telephone service providers do not pay regulatory fees on revenues from the provision of intrastate local and toll services, wireless monthly and local message services, satellite toll services, carrier's carrier telecommunications services, customer premises equipment, Internet service and non-telecommunications services. For FY 2001, carriers must multiply their interstate and international revenues from subject local and toll services by the factor 0.00132 to determine the appropriate fee for this category of service. Regulatees may want to use the following worksheet to determine their fee payment: ¹⁶⁷

¹⁶⁶ See 1998 Biennial Regulatory Review—Streamlined Contributor Reporting Requirements Associated with Administration of Telecommunications Relay Services, North American Numbering Plan, Local Number Portability, and Universal Service Support Mechanisms, Report and Order, FCC 99-175, CC Docket No. 98-171 (rel. July 14, 1999), 64 FR 41320 (Jul. 30, 1999) (Contributor Reporting Requirements Order).

¹⁶⁷ Although use of the worksheet is voluntary, we encourage its use and recommend that a completed copy be attached to your fee filing.

Calendar 2000 Revenue Information
[Show amounts in whole dollars]
1 Service provided by U.S. carriers that both originates and terminates in foreign points. Form 499-A Line 412(e) |
2 Interstate end-user revenues from all telecommunications services. Form 499-A Line 420(d) |
3 International end-user revenues from all telecommunications services except international-to-international. Form 499-A Line 420(e) |
4 Total end-user revenues (Sum of lines 1, 2 and 3) Note: also enter this number on Block (28A)—“FCC Code 1” |
5 End-user interstate mobile service monthly and activation charges. Form 499-A Line 409(d) |
6 End-user international mobile service monthly and activation charges. Form 499-A Line 409(e) |
7 End-user interstate mobile service message charges including roaming charges but excluding toll charges. Form 499-A Line 410(d) |
8 End-user international mobile service message charges including roaming charges but excluding toll charges. Form 499-A Line 410(e) |
9 End-user interstate satellite services. Form 499-A Line 416(d) |
10 End-user international satellite services. Form 499-A Line 416(e) |
11 Surcharges on mobile and satellite services identified as recovering universal service contributions and included in line 403(d) or 403(e) on your FCC Form 499-A. [Note: you may not include surcharges applied to local or toll services, nor any surcharges identified as intrastate surcharges.] |
12 Interstate and international revenues from resellers that do not contribute to USF. Form 499-A Line 511(b) |
13 Total excluded end-user revenues. (Sum lines 5 through 12.) Note: also enter this number on Block (29A)—“FCC Code 2” |
14 Total subject revenues. (Line 4 minus Line 13) Note: also enter this number on Block (25A)—“Quantity” |
15 Interstate telephone service provider fee factor | .00132
16 2001 Regulatory Fee (Line 14 times Line 15) * Note: also enter this number on Block (27A)—“Total Fee” |
* You are exempt from filing if the amount on line 16 is less than $10.

5. International Services

a. Earth Stations

35. Very Small Aperture Terminal (VSAT) Earth Stations, equivalent C-Band Earth Stations and antennas, and earth station systems comprised of very small aperture terminals operate in the 12 and 14 GHz bands and provide a variety of communications services to other stations in the network. VSAT systems consist of a network of technically-identical small Fixed-Satellite Earth Stations which often include a larger hub station. VSAT Earth Stations and C-Band Equivalent Earth Stations are authorized pursuant to part 25 of the Commission's Rules. Mobile Satellite Earth Stations, operating pursuant to part 25 of the Commission's Rules under blanket licenses for mobile antennas (transceivers), are smaller than one meter and provide voice or data communications, including position location information for mobile platforms such as cars, buses, or trucks.¹⁶⁸ Fixed-Satellite Transmit/Receive and Transmit-Only Earth Station antennas, authorized or registered under part 25 of the Commission's Rules, are operated by private and public carriers to provide telephone, television, data, and other forms of communications. Included in this category are telemetry, tracking and control (TT&C) earth stations, and earth station uplinks. For FY 2001, licensees of VSATs, Mobile Satellite Earth Stations, and Fixed-Satellite Transmit/Receive and Transmit-Only Earth Stations will pay a fee of $180 per authorization or registration as well as a separate fee of $180 for each associated Hub Station.

¹⁶⁸ Mobile earth stations are hand-held or vehicle-based units capable of operation while the operator or vehicle is in motion. In contrast, transportable units are moved to a fixed location and operate in a stationary (fixed) mode. Both are assessed the same regulatory fee for FY 2001.

36. Receive-only earth stations. For FY 2001, there is no regulatory fee for receive-only earth stations.

b. Space Stations (Geostationary Orbit)

37. Geostationary Orbit (also referred to as Geosynchronous) Space Stations are domestic and international satellites positioned in orbit to remain approximately fixed relative to the earth. Most are authorized under part 25 of the Commission's Rules to provide communications between satellites and earth stations on a common carrier and/or private carrier basis. In addition, this category includes Direct Broadcast Satellite (DBS) Service which includes space stations authorized under part 100 of the Commission's rules to transmit or re-transmit signals for direct reception by the general public encompassing both individual and community reception. For FY 2001, entities authorized to operate geostationary space stations (including DBS satellites) will be assessed an annual regulatory fee of $98,125 per operational station in orbit. Payment is required for any geostationary satellite that has been launched and tested and is authorized to provide service.

c. Space Stations (Non-Geostationary Orbit)

38. Non-Geostationary Orbit Systems (such as Low Earth Orbit (LEO) Systems) are space stations that orbit the earth in non-geosynchronous orbit. They are authorized under part 25 of the Commission's rules to provide communications between satellites and earth stations on a common carrier and/or private carrier basis. For FY 2001, entities authorized to operate Non-Geostationary Orbit Systems (NGSOs) will be assessed an annual regulatory fee of $94,425 per operational system in orbit. Payment is required for any NGSO System that has one or more operational satellites operational. In our FY 1997 Report and Order at paragraph 75 we retained our requirement that licensees of LEOs pay the LEO regulatory fee upon their certification of operation of a single satellite pursuant to section 25.120(d). We require payment of this fee following commencement of operations of a system's first satellite to insure that we recover our regulatory costs related to LEO systems from licensees of these systems as early as possible so that other regulatees are not burdened with these costs any longer than necessary. Because section 25.120(d) has significant implications beyond regulatory fees (such as whether the entire planned cluster is operational in accordance with the terms and conditions of the license) we previously clarified our definition of an operational LEO satellite to prevent misinterpretation of our intent as follows:

Licensees of Non-Geostationary Satellite Systems (such as LEOs) are assessed a regulatory fee upon the commencement of operation of a system's first satellite as reported annually pursuant to §§ 25.142(c), 25.143(e), 25.145(g), or upon certification of operation of a single satellite pursuant to § 25.120(d).

d. International Bearer Circuits

39. Regulatory fees for International Bearer Circuits are to be paid by facilities-based common carriers (either domestic or international) activating the circuit in any transmission facility for the provision of service to an end user or resale carrier. Payment of the fee for bearer circuits by non-common carrier submarine cable operators is required for circuits sold on an indefeasible right of use (IRU) basis or leased to any customer, including themselves or their affiliates, other than an international common carrier authorized by the Commission to provide U.S. international common carrier services. See FY 1994 Report and Order at 5367. Payment of the international bearer circuit fee is also required by non-common carrier satellite operators for circuits sold or leased to any customer, including themselves or their affiliates, other than an international common carrier authorized by the Commission to provide U.S. international common carrier services. The fee is based upon active 64 kbps circuits, or equivalent circuits. Under this formulation, 64 kbps circuits or their equivalent will be assessed a fee. Equivalent circuits include the 64 kbps circuit equivalent of larger bit stream circuits. For example, the 64 kbps circuit equivalent of a 2.048 Mbps circuit is 30 64 kbps circuits. Analog circuits such as 3 and 4 kHz circuits used for international service are also included as 64 kbps circuits. However, circuits derived from 64 kbps circuits by the use of digital circuit multiplication systems are not equivalent 64 kbps circuits. Such circuits are not subject to fees. Only the 64 kbps circuit from which they have been derived will be subject to payment of a fee. For FY 2001, the regulatory fee is $5 for each active 64 kbps circuit or equivalent. For analog television channels we will assess fees as follows:

Analog television channel size in MHz | Number of equivalent 64 kbps circuits
36 | 630
24 | 288
18 | 240

e. International Public Fixed

40. This fee category includes common carriers authorized under part 23 of the Commission's Rules to provide radio communications between the United States and a foreign point via microwave or HF troposcatter systems, other than satellites and satellite earth stations, but not including service between the United States and Mexico and the United States and Canada using frequencies above 72 MHz. For FY 2001, International Public Fixed Radio Service licensees will pay a $1,275 annual regulatory fee per call sign.

f. International (HF) Broadcast

41. This category covers International Broadcast Stations licensed under part 73 of the Commission's Rules to operate on frequencies in the 5,950 kHz to 26,100 kHz range to provide service to the general public in foreign countries. For FY 2001, International HF Broadcast Stations will pay an annual regulatory fee of $680 per station license.

Attachment G.—Description of FCC Activities

Licensing: This activity includes the authorization or licensing of radio stations, telecommunications equipment and radio operators, as well as the authorization of common carrier and other services and facilities. Includes direct organizational FTE and FTE workyear effort provided by staff offices to support policy direction, program development, legal services, and executive direction, as well as support services associated with licensing activities. (Cost of this activity is not included in determining regulatory fees.)

Competition: This activity includes formal inquiries, rulemaking proceedings to establish or amend the Commission's rules and regulations, action on petitions for rulemaking, and requests for rule interpretations or waivers; economic studies and analyses; spectrum planning, modeling, propagation-interference analyses and allocation; and development of equipment standards. Includes direct organizational FTE and FTE workyear effort provided by staff offices to support policy direction, program development, legal services, and executive direction, as well as support services associated with activities to promote competition.

Enforcement: This activity includes enforcement of the Commission's rules, regulations and authorizations, including investigations, inspections, compliance monitoring, and sanctions of all types. Also includes the receipt and disposition of formal and informal complaints regarding common carrier rates and services, the review and acceptance/rejection of carrier tariffs, and the review, prescription and audit of carrier accounting practices. Includes direct organizational FTE and FTE workyear effort provided by staff offices to support policy direction, program development, legal services, and executive direction, as well as support services associated with enforcement activities.

Consumer Information Services: This activity includes the publication and dissemination of Commission decisions and actions, and related activities; public reference and library services; the duplication and dissemination of Commission records and databases; the receipt and disposition of public inquiries; consumer, small business, and public assistance; and public affairs and media relations. Includes direct organizational FTE and FTE workyear effort provided by staff offices to support policy direction, program development, legal services, and executive direction, as well as support services associated with consumer information activities.

Spectrum Management: This activity includes management of the electromagnetic spectrum as mandated by the Communications Act of 1934, as amended. Spectrum management includes the structure and processes for allocating, allotting, assigning, and licensing this scarce resource to the private sector and state and local governments in a way that promotes competition while ensuring that the public interest is best served. In order to manage spectrum in both an efficient and equitable manner, the Commission prepares economic, technical and engineering studies, coordinates with federal agencies, and represents U.S. industry in international for a. Includes direct organizational FTE and FTE workyear effort provided by staff offices to support policy direction, program development, legal services, and executive direction, as well as support services associated with spectrum management activities.

Attachment H.—Factors, Measurements and Calculations That Go Into Determining Station Signal Contours and Associated Population Coverages

AM Stations

Specific information on each day tower, including field ratio, phasing, spacing and orientation was retrieved, as well as the theoretical pattern RMS figure (mV/m @ 1 km) for the antenna system. The standard, or modified standard if pertinent, horizontal plane radiation pattern was calculated using techniques and methods specified in §§ 73.150 and 73.152 of the Commission's rules.¹⁶⁹ Radiation values were calculated for each of 72 radials around the transmitter site (every 5 degrees of azimuth). Next, estimated soil conductivity data was retrieved from a database representing the information in FCC Figure M3. Using the calculated horizontal radiation values, and the retrieved soil conductivity data, the distance to the city grade (5 mV/m) contour was predicted for each of the 72 radials. The resulting distance to city grade contours were used to form a geographical polygon. Population counting was accomplished by determining which 1990 block centroids were contained in the polygon. The sum of the population figures for all enclosed blocks represents the total population for the predicted city grade coverage area.

¹⁶⁹ 47 CFR 73.150 and 73.152.

FM Stations

The maximum of the horizontal and vertical HAAT (m) and ERP (kW) was used. Where the antenna HAMSL was available, it was used in lieu of the overall HAAT figure to calculate specific HAAT figures for each of 72 radials under study. Any available directional pattern information was applied as well, to produce a radial-specific ERP figure. The HAAT and ERP figures were used in conjunction with the propagation curves specified in § 73.313 of the Commission's rules to predict the distance to the city grade (70 dBuV/m or 3.17 mV/m) contour for each of the 72 radials.¹⁷⁰ The resulting distance to city grade contours were used to form a geographical polygon. Population counting was accomplished by determining which 1990 block centroids were contained in the polygon. The sum of the population figures for all enclosed blocks represents the total population for the predicted city grade coverage area.

¹⁷⁰ 47 CFR 73.313.

Attachment I

Parties Filing Comments on the Notice of Proposed Rulemaking

Juddie D. Burgess

WorldCom, Inc. (“WorldCom”)

Cellular Telecommunications & Internet Association (“CTIA”)

Wireless Communications Association International, Inc. (“WCA”)

Winstar Communications, Inc. (“Winstar”)

Verizon Wireless (“Verizon”)

IPWireless, Inc. (“IPWireless”)

Paxson Communications Corporation (“Paxson”)

Parties Filing Reply Comments

Sprint Corporation (“Sprint”)

Attachment J.—AM and FM Radio Regulatory Fees

The List of regulatory fees is available from the FCC Public Reference Room, CY-A257, 445 12th St. SW., Washington, DC 20554.

Rule Changes

For the reasons discussed in the preamble, the Federal Communications Commission amends 47 CFR part 1 as follows:

PART 1—PRACTICE AND PROCEDURE

1. The authority citation for Part 1 continues to read as follows:

Authority: 47 U.S.C. 151, 154(i), 154(j), 155, 225, 303(r), 309 and 325 (e).

2. Section 1.1117 paragraph (c) is revised to read as follows:

§ 1.1117 Petitions and applications for review.

* * * * *

(c) Petitions for waivers, deferrals, fee determinations, reconsiderations and applications for review will be acted upon by the Managing Director with the concurrence of the General Counsel. All such filings within the scope of the fee rules shall be filed as a separate pleading and clearly marked to the attention of the Managing Director. Any such request that is not filed as a separate pleading will not be considered by the Commission. Requests for deferral of a fee payment for financial hardship must be accompanied by supporting documentation.

(1) Petitions and applications for review submitted with a fee must be submitted to the Commission's lockbox bank at the address for the appropriate service set forth in §§ 1.1102 through 1.1105.

(2) If no fee payment is submitted, the request should be filed with the Commission's Secretary.

* * * * *

3. Section 1.1152 is revised to read as follows:

§ 1.1152 Schedule of annual regulatory fees and filing locations for wireless radio services.

| Fee amount ¹ | Address
1. Land Mobile (Above 470 MHz and 220 MHz Local, Base Station & SMRS) (47 CFR, Part 90)
(a) New, Renew/Mod (FCC 601 & 159) | $5.00 | FCC, P.O. Box 358130, Pittsburgh, PA, 15251-5130.
(b) New, Renew/Mod (Electronic Riling) (FCC 601 & 159) | $5.00 | FCC, P.O. Box 358994, Pittsburgh, PA, 15251-5994.
(c) Renewal Only (FCC 601 & 159) | $5.00 | FCC, P.O. Box 358245, Pittsburgh, PA, 15251-5245.
(d) Renewal Only (Electronic Filing) (FCC 601 & 159) | $5.00 | FCC, P.O. Box 358994, Pittsburgh, PA, 15251-5245.
220 MHz Nationwide
(a) New, Renew/Mod (FCC 601 & 159) | $5.00 | FCC, P.O. Box 358130, Pittsburgh, PA, 15251-5130.
(b) New, Renew/Mod (Electronic Filing) (FCC 601 & 159) | $5.00 | FCC, P.O. Box 358994, Pittsburgh, PA, 15251-5994.
(c) Renewal Only (FCC 601 & 159) | $5.00 | FCC, P.O. Box 358245, Pittsburgh, PA, 15251-5245.
(d) Renewal Only (Electronic Filing) (FCC 601 & 159) | $5.00 | FCC, P.O. Box 358994, Pittsburgh, PA, 15251-5994.
2. Microwave (47 CFR Pt. 101) (Private)
(a) New, Renew/Mod (FCC 601 & 159) | $5.00 | FCC, P.O. Box 358130, Pittsburgh, PA, 15251-5130.
(b) New, Renew/Mod (Electronic Filing) (FCC 601 & 159) | $5.00 | FCC, P.O. Box 358994, Pittsburgh, PA, 15251-5994.
(c) Renewal Only (FCC 601 & 159) | $5.00 | FCC, P.O. Box 358245, Pittsburgh, PA, 15251-5245.
(d) Renewal Only (Electronic Filing) (FCC 601 & 159) | $5.00 | FCC, P.O. Box 358994, Pittsburgh, PA, 15251-5994.
3. 218-219 MHz Service
(a) New, Renew/Mod (FCC 601 & 159) | $10.00 | FCC, P.O. Box 358130, Pittsburgh, PA, 15251-5130.
(b) New, Renew/Mod (Electronic Filing) (FCC 601 & 159) | $10.00 | FCC, P.O. Box 358994, Pittsburgh, PA, 15251-5994.
(c) Renewal Only (FCC 601 & 159) | $10.00 | FCC, P.O. Box 358245, Pittsburgh, PA, 15251-5245.
(d) Renewal Only (Electronic Filing) (FCC 601 & 159) | $10.00 | FCC, P.O. Box 358994, Pittsburgh, PA, 15251-5994.
4. Shared Use Services
Land Mobile (Frequencies Below 470 MHz—except 220 MHz)
(a) New, Renew/Mod (FCC 601 & 159) | $5.00 | FCC, P.O. Box 358130, Pittsburgh, PA 15251-5130.
(b) New, Renew/Mod (Electronic Filing) (FCC 601 & 159) | $5.00 | FCC, P.O. Box 358994, Pittsburgh, PA, 15251-5994.
(c) Renewal Only (FCC 601 & 159) | $5.00 | FCC, P.O. Box 358245, Pittsburgh, PA, 15251-5245.
(d) Renewal Only (Electronic Filing) (FCC 601 & 159) | $5.00 | FCC, P.O. Box 358994, Pittsburgh, PA, 15251-5994.
General Mobile Radio Service
(a) New, Renew/Mod (FCC 605 & 159) | $5.00 | FCC, P.O. Box 358130, Pittsburgh, PA, 15251-5130.
(b) New, Renew/Mod (Electronic Filing) (FCC 605 & 159) | $5.00 | FCC, P.O. Box 358994, Pittsburgh, PA, 15251-5994.
(c) Renewal Only (FCC 605 & 159) | $5.00 | FCC, P.O. Box 358245, Pittsburgh, PA, 15251-5245.
(d) Renewal Only (Electronic Filing) (FCC 605 & 159) | $5.00 | FCC P.O. Box 358994, Pittsburgh, PA, 15251-5994.
Rural Radio (Part 22)
(a) New, Additional Facility, Major Renew/Mod (Electronic Filing) (FCC 601 & 159) | $5.00 | FCC, P.O. Box 358994, Pittsburgh, PA, 15251-5994.
(b) Renewal, Minor Renew/Mod (Electronic Filing) (FCC 601 & 159) | $5.00 | FCC, P.O. Box 358994, Pittsburgh, PA, 15251-5994.
Marine Coast
(a) New Renewal/Mod (FCC 601 & 159) | $5.00 | FCC, P.O. Box 358130, Pittsburgh, PA, 15251-5130.
(b) Renewal Only (FCC 601 & 159) | $5.00 | FCC, P.O. Box 358245, Pittsburgh, PA, 15251-5245.
(c) Renewal Only (Electronic Filing) (FCC 601 & 159) | $5.00 | FCC, P.O. Box 358994, Pittsburgh, PA, 15251-5994.
Aviation Ground
(a) New, Renewal/Mod (FCC 601 & 159) | $10.00 | FCC, P.O. Box 358130, Pittsburgh, PA, 15251-5130.
(b) Renewal Only (FCC 601 & 159) | $10.00 | FCC, P.O. Box 358245, Pittsburgh, PA, 15251-5245.
(c) Renewal Only (Electronic Filing) (FCC 601 & 159) | $10.00 | FCC, P.O. Box 358994, Pittsburgh, PA, 15251-5994.
Marine Ship
(a) New, Renewal/Mod (FCC 605 & 159) | $10.00 | FCC, P.O. Box 358130, Pittsburgh, PA, 15251-5130.
(b) New, Renewal/Mod (Electronic Filing) (FCC 605 & 159) | $10.00 | FCC, P.O. Box 358994, Pittsburgh, PA, 15251-5994.
(c) Renewal Only (FCC 605 & 159) | $10.00 | FCC, P.O. Box 358245, Pittsburgh, PA, 15251-5245.
(d) Renewal Only (Electronic Filing) (FCC 605 & 159) | $10.00 | FCC, P.O. Box 358994, Pittsburgh, PA, 15251-5994.
Aviation Aircraft
(a) New, Renew/Mod (FCC 605 & 159) | $5.00 | FCC, P.O. Box 358130, Pittsburgh, PA, 15251-5130.
(b) New, Renew/Mod (Electronic Filing) (FCC 605 & 159) | $5.00 | FCC, P.O. Box 358994, Pittsburgh, PA, 15251-5994.
(c) Renewal Only (FCC 605 & 159) | $5.00 | FCC, P.O. Box 358245, Pittsburgh, PA, 15251-5245.
(d) Renewal Only (Electronic Filing) (FCC 605 & 159) | $5.00 | FCC, P.O. Box 358994, Pittsburgh, PA, 15251-5994.
5. Amateur Vanity Call Signs
(a) Initial or Renew (FCC 605 & 159) | $1.20 | FCC, P.O. Box 358130, Pittsburgh, PA, 15251-5130.
(b) Initial or Renew (Electronic Filing) (FCC 605 & 159) | $1.20 | FCC, P.O. Box 358994, Pittsburgh, PA, 15251-5994.
6. CMRS Mobile Services (per unit)
(FCC 159) | $.27 | FCC, P.O. Box 358835, Pittsburgh, PA, 15251-5835.
7. CMRS Messaging Services (per unit)
(FCC 159) | $.05 | FCC, P.O. Box 358835, Pittsburgh, PA, 15251-5835.
¹ Note that “small fees” are collected in advance for the entire license term. Therefore, the annual fee amount shown in this table must be multiplied by the 5- or 10-year license term, as appropriate, to arrive at the total amount of regulatory fees owed. It should be further noted that application fees may also apply as detailed in § 1.1102 of this chapter.

4. Section 1.1153 is revised to read as follows:

§ 1.1153 Schedule of annual regulatory fees and filing locations for mass media services.

| Fee amount | Address
Radio [AM and FM] (47 CFR, Part 73)
1. AM Class A
≦20,000 population 20,001-50,000 population 50,001-125,000 population 125,001-400,000 population 400,001-1,000,000 population >1,000,000 population | $450 $850 $1,375 $2,050 $2,850 $4,550 | FCC, Radio, P.O. Box 358835, Pittsburgh, PA, 15251-5835.
2. AM Class B
≦20,000 population | $350
20,001-50,000 population | $675
50,001-125,000 population | $900
125,001-400,000 population | $1,450
400,001-1,000,000 population | $2,300
>1,000,000 population | $3,750
3. AM Class C
≦20,000 population | $250
20,001-50,000 population | $350
50,001-125,000 population | $475
125,001-400,000 population | $725
400,001-1,000,000 population | $1,300
>1,000,000 population | $1,900
4. AM Class D
≦20,000 population | $300
20,001-50,000 population | $475
50,001-125,000 population | $700
125,001-400,000 population | $875
400,001-1,000,000 population | $1,550
>1,000,000 population | $2,400
5. AM Construction Permit | $280
6. FM Classes A, B1 and C3
≦20,000 population | $350
20,001-50,000 population | $675
50,001-125,000 population | $900
125,001-400,000 population | $1,450
400,001-1,000,000 population | $2,300
>1,000,000 population | $3,750
7. FM Classes B, C, C1 and C2
≦20,000 population | $450
20,001-50,000 population | $850
50,001-125,000 population | $1,375
125,001-400,000 population | $2,050
400,001-1,000,000 population | $2,850 | >1,000,000 population | $4,550
8. FM Construction Permits | $925
TV (47 CFR, Part 73)
VHF Commercial
1. Markets 1 thru 10 2. Markets 11 thru 25 3. Markets 26 thru 50 4. Markets 51 thru 100 5. Remaining Markets 6. Construction Permits | $45,100 $32,825 $21,325 $13,750 $3,275 $3,075 | FCC, TV Branch, P.O. Box 358835, Pittsburgh, PA, 15251-5835.
UHF Commercial
1. Markets 1 thru 10 2. Markets 11 thru 25 3. Markets 26 thru 50 4. Markets 51 thru 100 5. Remaining Markets 6. Construction Permits | $15,150 $12,300 $7,075 $4,075 $1,150 $4,000 | FCC, UHF Commercial, P.O. Box 358835, Pittsburgh, PA, 15251-5835.
Satellite UHF/VHF Commercial
1. All Markets 2. Construction Permits | $740 $480 | FCC Satellite TV, P.O. Box 358835, Pittsburgh, PA, 15251-5835.
Low Power TV, TV/FM Translator, & TV/FM Booster (47 CFR Part 74) | $305 | FCC, Low Power, P.O. Box 358835, Pittsburgh, PA, 15251-5835;.
Broadcast Auxiliary | $10 | FCC, Auxiliary, P.O. Box 358835, Pittsburgh, PA, 15251-5835.
Multipoint Distribution | $450 | FCC, Multipoint, P.O. Box 358835, Pittsburgh, PA, 15251-5835.

5. Section 1.1154 is revised to read as follows:

§ 1.1154 Schedule of annual regulatory charges and filing locations for common carrier services.

| Fee amount | Address
Radio Facilities
1. Microwave (Domestic Public Fixed)(Electronic Filing) (FCC Form 601 & 159) | $5.00 | FCC, P.O. Box 358994, Pittsburgh, PA 15251-5994.
Carriers
1. Interstate Telephone Service Providers (per interstate and international end-user revenues (see FCC Form 499-A) | $ .00132 | FCC, Carrier, P.O. Box 358835, Pittsburgh, PA, 15251-5835.

6. Section 1.1155 is revised to read as follows:

§ 1.1155 Schedule of regulatory fees and filing locations for cable television services.

| Fee amount | Address
1. Cable Television Relay Service 2. Cable TV System (per subscriber) | $55 .49 | FCC, Cable, P.O. Box 358835, Pittsburgh, PA, 15251-5835.

7. Section 1.1156 is revised to read as follows:

§ 1.1156 Schedule of regulatory fees and filing locations for international services.

| Fee amount | Address
Radio Facilities
1. International (HF) Broadcast | $680 | FCC, International, P.O. Box 358835, Pittsburgh, PA, 15251-5835.
2. International Public Fixed | 1,275 | FCC, International, P.O. Box 358835, Pittsburgh, PA, 15251-5835.
Space Stations (Geostationary Orbit) | 98,125 | FCC, Space Stations, P.O. Box 358835, Pittsburgh, PA, 15251-5835.
Space Stations (Non-Geostationary Orbit) | 94,425 | FCC, Space Stations, P.O. Box 358835, Pittsburgh, PA, 15251-5835.
Earth Stations
Transmit/Receive & Transmit Only (per authorization or registration) | 180 | FCC, Earth Station, P.O. Box 358835, Pittsburgh, PA, 15251-5835.
Carriers
1. International Bearer Circuits (per active 64KB circuit or equivalent) | 5.00 | FCC, International, P.O. Box 358835, Pittsburgh, PA, 15251-5835.

8. Section 1.1166 paragraph (a) is revised to read as follows:

§ 1.1166 Waivers, reductions and deferrals of regulatory fees.

* * * * *

(a) Requests for waivers, reductions or deferrals will be acted upon by the Managing Director with the concurrence of the General Counsel. All such filings within the scope of the fee rules shall be filed as a separate pleading and clearly marked to the attention of the Managing Director. Any such request that is not filed as a separate pleading will not be considered by the Commission.

(1) If the request for waiver, reduction or deferral is accompanied by a fee payment, the request must be submitted to the Commission's lockbox bank at the address for the appropriate service set forth in §§ 1.1152 through 1.1156 of this subpart.

(2) If no fee payment is submitted, the request should be filed with the Commission's Secretary.

* * * * *

[FR Doc. 01-17114 Filed 7-10-01; 8:45 am]

BILLING CODE 6712-01-P